ENVIRONMENTAL PROTECTION AGENCY

40 CFR Part 180

[EPA-HQ-OPP-2010-0262; FRL-8821-3]

Acephate, Cacodylic acid, Dicamba, Dicloran et al.; Proposed Tolerance Actions

AGENCY: Environmental Protection Agency (EPA).

ACTION: Proposed rule.

SUMMARY: EPA is proposing to revoke certain tolerances for the fungicides dicloran and thiophanate-methyl; the herbicides EPTC, hexazinone, picloram, and propazine; the defoliant and herbicide cacodylic acid; the plant growth regulator and herbicide diquat, the insecticides disulfoton, malathion, methamidophos, methomyl, phosmet, piperonyl butoxide, pyrethrins, and thiodicarb; the fumigant antimicrobial and insecticide methyl bromide, the nematicides/insecticides ethoprop and fenamiphos, the insecticide synergist N-octyl bicycloheptene dicarboximide, and the tolerance exemptions for the insecticide/miticide pyrethrum and insecticide synergist N-octyl bicycloheptene dicarboximide. In addition, EPA is proposing to remove certain expired tolerances for disulfoton, fenamiphos, and thiophanate-methyl. Also, EPA is proposing to modify certain tolerances for the fungicide thiophanate-methyl, herbicides dicamba, EPTC, hexazinone and picloram, and insecticide synergist N-octyl bicycloheptene dicarboximide. In addition, EPA is proposing to establish new tolerances for the fungicide thiophanate-methyl and the herbicides EPTC, hexazinone, and picloram. Also, EPA is proposing to reinstate specific tolerances for methamidophos residues as a result of the application of the insecticide acephate. The regulatory actions proposed in this document are in follow-up to the Agency's reregistration program under the Federal Insecticide, Fungicide, and Rodenticide Act (FIFRA), and tolerance reassessment program under the Federal Food, Drug, and Cosmetic Act (FFDCA), section 408(q).

DATES: Comments must be received on or before July 19, 2010.

ADDRESSES: Submit your comments, identified by docket identification (ID) number EPA-HQ-OPP-2010-0262, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2010-0262. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Joseph Nevola, Pesticide Re-evaluation Division (7508P), Office of Pesticide Programs, Environmental Protection Agency, 1200 Pennsylvania Ave, NW., Washington, DC 20460-0001; telephone number: (703) 308-8037; e-mail address: nevola.joseph@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II.A. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. What Can I do if I Wish the Agency to Maintain a Tolerance that the Agency Proposes to Revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under FFDCA section 408(f), if needed. The order would specify data needed and the timeframes for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What Action is the Agency Taking?

EPA is proposing to revoke, modify, and establish specific tolerances for residues of the fungicides dicloran and thiophanate-methyl; the herbicides dicamba, EPTC, hexazinone, picloram, and propazine; the defoliant and herbicide cacodylic acid; the plant growth regulator and herbicide diquat, the insecticides disulfoton, malathion, methamidophos, methomyl, phosmet, piperonyl butoxide, pyrethrins, and thiodicarb; the fumigant antimicrobial and insecticide methyl bromide, the nematicides/insecticides ethoprop and fenamiphos; and the insecticide synergist N-octyl bicycloheptene dicarboximide; revoke the tolerance exemptions for the insecticide/miticide pyrethrum and insecticide synergist N-octyl bicycloheptene dicarboximide; remove certain expired tolerances for disulfoton, fenamiphos, and thiophanate-methyl; and reinstate specific tolerances for methamidophos residues as a result of the application of the insecticide acephate in or on commodities listed in the regulatory text.

EPA is proposing these tolerance/tolerance exemption actions to implement the tolerance recommendations made during the reregistration and tolerance reassessment processes (including follow-up on canceled or additional uses of pesticides). As part of these processes, EPA is required to determine whether each of the amended tolerances meets the safety standard of FFDCA. The safety finding determination of “reasonable certainty of no harm” is discussed in detail in each Reregistration Eligibility Decision (RED) and Report of the Food Quality Protection Act (FQPA) Tolerance Reassessment Progress and Risk Management Decision (TRED) for the active ingredient. REDs and TREDs recommend the implementation of certain tolerance actions, including modifications to reflect current use patterns, meet safety findings, and change commodity names and groupings in accordance with new EPA policy. Printed copies of many REDs and TREDs may be obtained from EPA's National Service Center for Environmental Publications (EPA/NSCEP), P.O. Box 42419, Cincinnati, OH 45242-2419; telephone number: 1-800-490-9198; fax number: 1-513-489-8695; Internet at http://www.epa.gov/ncepihom and from the National Technical Information Service (NTIS), 5285 Port Royal Rd., Springfield, VA 22161; telephone number: 1-800-553-6847 or (703) 605-6000; Internet at http://www.ntis.gov. Electronic copies of REDs and TREDs are available on the Internet in public dockets; REDs for cacodylic acid (EPA-HQ-OPP-2006-0201), dicamba (EPA-HQ-OPP-2005-0479), ethoprop (EPA-HQ-OPP-2002-0269), malathion (EPA-HQ-OPP-2004-0348), N-octyl bicycloheptene dicarboximide (EPA-HQ-OPP-2005-0040), pyrethrum (see pyrethrins RED in EPA-HQ-OPP-2005-0043), and thiophanate-methyl (EPA-HQ-OPP-2004-0265), and TREDs for hexazinone (EPA-HQ-OPP-2002-0188) and propazine (EPA-HQ-OPP-2005-0496) at http://www.regulations.gov and REDs for acephate, EPTC, methamidophos, phosmet, and picloram at http://www.epa.gov/pesticides/reregistration/status.htm.

The selection of an individual tolerance level is based on crop field residue studies designed to produce the maximum residues under the existing or proposed product label. Generally, the level selected for a tolerance is a value slightly above the maximum residue found in such studies, provided that the tolerance is safe. The evaluation of whether a tolerance is safe is a separate inquiry. EPA recommends the raising of a tolerance when data show that:

• Lawful use (sometimes through a label change) may result in a higher residue level on the commodity.

• The tolerance remains safe, notwithstanding increased residue level allowed under the tolerance.

In REDs, Chapter IV on “Risk management, Reregistration, and Tolerance reassessment” typically describes the regulatory position, FQPA assessment, cumulative safety determination, determination of safety for U.S. general population, and safety for infants and children. In particular, the human health risk assessment document which supports the RED describes risk exposure estimates and whether the Agency has concerns. In TREDs, the Agency discusses its evaluation of the dietary risk associated with the active ingredient and whether it can determine that there is a reasonable certainty (with appropriate mitigation) that no harm to any population subgroup will result from aggregate exposure. EPA also seeks to harmonize tolerances with international standards set by the Codex Alimentarius Commission, as described in Unit III.

Explanations for proposed modifications in tolerances can be found in the RED and TRED document and in more detail in the Residue Chemistry Chapter document which supports the RED and TRED. Copies of the Residue Chemistry Chapter documents are found in the Administrative Record and electronic copies for dicamba, ethoprop (Data Requirements and Tolerance Reassessment), hexazinone, malathion, N-octyl bicycloheptene dicarboximide, propazine, pyrethrum (see pyrethrins), and thiophanate-methyl can be found under their respective public docket ID numbers, identified in Unit II.A. Electronic copies are also available in public dockets for acephate (EPA-HQ-OPP-2007-0445), cacodylic acid (EPA-HQ-OPP-2006-0201), methamidophos (EPA-HQ-OPP-2007-0261), and phosmet (EPA-HQ-OPP-2008-0834), and for EPTC in the public docket for this proposed rule. Electronic copies are available through EPA's electronic public docket and comment system, regulations.gov at http://www.regulations.gov. You may search for this proposed rule under docket ID number EPA-HQ-OPP-2010-0262, then click on that docket ID number to view its contents.

EPA has determined that the aggregate exposures and risks are not of concern for the above mentioned pesticide active ingredients based upon the data identified in the RED or TRED which lists the submitted studies that the Agency found acceptable.

EPA has found that the tolerances/tolerance exemptions that are proposed in this document to be modified, are safe; i.e., that there is a reasonable certainty that no harm will result to infants and children from aggregate exposure to the pesticide chemical residues, in accordance with FFDCA section 408(b)(2)(C). (Note that changes to tolerance nomenclature do not constitute modifications of tolerances). These findings are discussed in detail in each RED or TRED. The references are available for inspection as described in this document under SUPPLEMENTARY INFORMATION.

In addition, EPA is proposing to revoke certain specific tolerances/tolerance exemptions because either they are no longer needed or are associated with food uses that are no longer registered under FIFRA. Those instances where registrations were canceled were because the registrant failed to pay the required maintenance fee and/or the registrant voluntarily requested cancellation of one or more registered uses of the pesticide. It is EPA's general practice to propose revocation of those tolerances/tolerance exemptions for residues of pesticide active ingredients on crop uses for which there are no active registrations under FIFRA, unless any person in comments on the proposal indicates a need for the tolerance to cover residues in or on imported commodities or legally treated domestic commodities.

1. Acephate. In order to describe more clearly the measurement and scope or coverage of the tolerances, EPA is proposing to revise the introductory text containing the tolerance expression in 40 CFR 180.108(a)(1) to read as follows:

Tolerances are established for residues of acephate, O,S-dimethyl acetyl phosphoramidothioate, including its metabolites and degradates other than methamidophos, in or on the commodities in the table in this paragraph. Compliance with the tolerance levels specified in this paragraph is to be determined by measuring only acephate, O,S-dimethyl acetyl phosphoramidothioate, in or on the commodity.

In the Federal Register of January 29, 2008 (73 FR 5104) (FRL-8348-8), EPA revised the tolerance expression for acephate in 40 CFR 180.108 from the combined residues of acephate, O,S-dimethyl acetyl phosphoramidothioate, and methamidophos, O,S-dimethyl phosphoramidothioate, to residues of acephate per se, removed the terminology “of which no more than 1 ppm, 0.5 ppm, or 0.1 ppm is O,S-dimethyl phosphoramidothioate” from tolerances on bean (succulent and dry); Brussels sprouts; cauliflower; celery; cranberry; lettuce, head; mint hay, and pepper; and footnoted that residues of the acephate metabolite, methamidophos, are regulated under 40 CFR 180.315. However, the basis for this action was in error, as methamidophos tolerances for bean, dry, seed; bean, succulent; cranberry; peppermint, tops; and spearmint, tops had not in fact been established in 40 CFR 180.315. To remedy this inadvertent error, the Agency proposes to reinstate the 40 CFR 180.108 tolerances. Consequently, EPA is proposing to separate tolerances for residues of methamidophos from the application of acephate in newly designated 40 CFR 180.108(a)(3), with the introductory text to read as follows:

Tolerances are established for residues of methamidophos, O,S-dimethyl phosphoramidothioate, including its metabolites and degradates, in or on the commodities in the table in this paragraph as a result of the application of acephate. Compliance with the tolerance levels specified in this paragraph is to be determined by measuring only methamidophos, O,S-dimethyl phosphoramidothioate, in or on the commodity.

In addition, EPA is proposing to reinstate the tolerances in 40 CFR 180.108(a)(3) on bean, dry, seed at 1 ppm; bean, succulent at 1 ppm; Brussels sprouts at 0.5 ppm; cauliflower at 0.5 ppm (which is in harmony with the Codex maximumn residue limits (MRL) of 0.5 milligrams/kilogram (mg/kg) on cauliflower); celery 1 ppm; cranberry at 0.1 ppm; lettuce, head at 1 ppm; pepper at 1 ppm; and reinstate mint hay, revising the tolerance terminology to peppermint, tops at 1 ppm and spearmint, tops at 1 ppm. On January 29, 2008, EPA published a final rule in the Federal Register (73 FR 5104) (FRL-8348-8), which finalized tolerance actions for several active ingredients, including acephate, and which increased the tolerances in 40 CFR 180.108(a)(1) for acephate residues in or on mint hay (peppermint, tops and spearmint, tops) from 15.0 to 27.0 ppm. Consequently, methamidophos residues resulting from acephate application are expected by the Agency to be increased from 1.0 to 2.0 ppm in or on peppermint, tops and spearmint, tops. However, the Agency is not proposing an increase on the peppermint, tops and spearmint, tops tolerances for methamidophos residues at this time.

Based on available data that showed residues of acephate were as high as 0.02 ppm for only one of seven exposed food items following both a spot treatment and crack/crevice treatment for rooms treated with acephate at the 1x rate and residues of methamidophos were undetectable from these acephate treatments, the Agency determined that a tolerance level of 0.02 ppm for acephate residues was appropriate and that there was no expectation of methamidophos residues and therefore no methamidophos tolerance was needed concerning food handling establishments. Consequently, compliance with the tolerance at 0.02 ppm in 40 CFR 180.108(a)(2) should continue to be determined by measuring only acephate residues. However, in order to describe more clearly the measurement and scope or coverage of the tolerances, EPA is proposing to revise the introductory text containing the tolerance expression in 40 CFR 180.108(a)(2), to read as follows:

A tolerance of 0.02 ppm is established for residues of acephate, O,S-dimethyl acetyl phosphoramidothioate, including its metabolites and degradates other than methamidophos, in or on all food items (other than those already covered by a higher tolerance as a result of use on growing crops) in food handling establishments where food and food products are held, processed, prepared and served, including food service, manufacturing and processing establishments, such as restaurants, cafeterias, supermarkets, bakeries, breweries, dairies, meat slaughtering and packing plants, and canneries, where application of acephate shall be limited solely to spot and/or crack and crevice treatment (a coarse, low-pressure spray shall be used to avoid atomization or splashing of the spray for spot treatments; equipment capable of delivering a pin-stream of insecticide shall be used for crack and crevice treatments). Spray concentration shall be limited to a maximum of 1.0 percent active ingredient. Contamination of food or food-contact surfaces shall be avoided. Compliance with the tolerance levels specified in this paragraph is to be determined by measuring only acephate, O,S-dimethyl acetyl phosphoramidothioate, in or on the commodity.

Because EPA is proposing to revise 40 CFR 180.108(a)(2) and include text from 40 CFR 180.108(a)(2)(i) and (a)(2)(ii), existing paragraphs (a)(2)(i) and (a)(2)(ii) are no longer needed. Therefore, EPA is proposing to remove 40 CFR 180.108(a)(2)(i) and (a)(2)(ii).

In order to describe more clearly the measurement and scope or coverage of the tolerances, EPA is proposing to revise the introductory text containing the regional tolerance expression in 40 CFR 180.108(c) to read as follows:

A tolerance with a regional registration is established for residues of acephate, O,S-dimethyl acetyl phosphoramidothioate, including its metabolites and degradates other than methamidophos, in or on the commodity in the table in this paragraph. Compliance with the tolerance level specified in this paragraph is to be determined by measuring only acephate, O,S-dimethyl acetyl phosphoramidothioate, in or on the commodity.

Also, EPA is proposing to revise the table footnote in 40 CFR 180.108(a)(1) and add a table footnote in 40 CFR 180.108(c) to read as follows:

Where there is a direct use of methamidophos on the commodity, residues of methamidophos resulting from methamidophos application are regulated under 40 CFR 180.315.

There are Codex MRLs for acephate, including those on beans, except broad bean and soya bean at 5 mg/kg, cauliflower at 2 mg/kg, cranberry at 0.5 mg/kg, peppers, chili (dry) at 50 mg/kg, and other commodities.

2. Cacodylic acid. In the Federal Register notice of July 8, 2009 (74 FR 32596) (FRL-8422-6), EPA issued a notice regarding EPA's announcement of the receipt of requests from registrants to voluntarily cancel certain registrations, including ones for cacodylic acid (and sodium salt) and therefore terminate the last cacodylic acid (and sodium salt) uses in or on cotton. After the close of the 30-day comment period, EPA approved cancellation of certain registrations, including the cacodylic acid (and sodium salt) registrations for uses in or on cotton and issued a cancellation order in the Federal Register notice of September 30, 2009 (74 FR 50187)(FRL-8437-7), made them effective on September 30, 2009, and prohibited the registrants for the canceled cacodylic acid (and sodium salt) registrations to sell and distribute existing stocks after December 31, 2009. Also, EPA prohibited persons other than the registrant to sell and distribute the canceled cacodylic acid (and sodium salt) existing stocks after December 31, 2010. The Agency believes that end users will have had sufficient time to exhaust those existing stocks and for treated cotton commodities to have cleared the channels of trade by January 1, 2012. The termination of the last cacodylic acid (and sodium salt) uses in or on cotton means that the tolerance will no longer be needed and should be revoked with an expiration/revocation date. Therefore, EPA is proposing to revoke the tolerance in 40 CFR 180.311(a) on cotton, undelinted seed with an expiration/revocation date of January 1, 2012.

Currently, tolerances are expressed for the defoliant cacodylic acid in 40 CFR 180.311(a) for residues of cacodylic acid (dimethylarsinic acid), expressed as As2O3. In order to describe more clearly the measurement and scope or coverage of the tolerances, EPA is proposing to revise the introductory text containing the tolerance expression in 40 CFR 180.311(a) to read as follows:

A tolerance is established for residues of the defoliant cacodylic acid, dimethylarsinic acid, including its metabolites and degradates, in or on the commodity in the table in this paragraph. Compliance with the tolerance level specified in this paragraph is to be determined by measuring only those cacodylic acid residues convertible to As2O3, expressed as the stoichiometric equivalent of cacodylic acid, in or on the commodity.

There are no Codex MRLs for cacodylic acid.

3. Dicamba. Based on available processing data that showed an average concentration factor of 24.4X for molasses and the Highest Average Field Trial (HAFT) residue of 0.183 ppm for sugarcane, EPA determined that the expected combined dicamba residues of concern in sugarcane molasses are 4.465 ppm, and that the currently established tolerance of 2.0 ppm for sugarcane molasses should be increased from 2.0 to 5.0 ppm. Therefore, the Agency is proposing to increase the tolerance in 40 CFR 180.227(a)(1) on sugarcane, molasses to 5.0 ppm. The Agency determined that the increased tolerance is safe; i.e., there is a reasonable certainty that no harm will result from aggregate exposure to the pesticide chemical residue.

Based on available sugarcane field trial data that showed combined dicamba residues of concern as high as 0.2 ppm in or on sugarcane harvested 87-173 days following a single layby application at 2.0 lb dicamba acid equivalents per acre (ae/A), EPA determined that the tolerance should be increased from 0.1 to 0.3 ppm. While the available data, conducted at an application rate of 2.0 lb dicamba ae/A, do not support the maximum seasonal single/yearly rate of 2.8 lb dicamba ae/A that was listed in the Dicamba Master Use Profile, the Agency determined that the available data was adequate provided the registrants revise their product labels to specify a maximum seasonal rate of 2.0 lb dicamba ae/A and an 87-day preharvest interval (PHI) for sugarcane or submit additional data on sugarcane reflecting a maximum single/yearly rate of 2.8 lb dicamba ae/A. In response to the Data Call-In (DCI) of June 27, 2008 that was issued to registrants, including the basic manufacturer BASF, BASF requested a waiver of the sugarcane study at 2.8 lb dicamba ae/A and cited MRID 44089302, and accepted rate limitations of 1 lb dicamba ae/A for single application, and an annual rate limitation of 2 lb dicamba ae/A. The Agency considers that available data to be sufficient provided product labels specify a maximum seasonal rate of 2.0 lb dicamba ae/A and an 87-day PHI for sugarcane. Therefore, because the current tolerance on sugarcane, cane at 0.1 ppm is too low, based on the available data, EPA is proposing to increase the tolerance in 40 CFR 180.227(a)(1) on sugarcane, cane to 0.3 ppm. The Agency determined that the increased tolerance is safe; i.e., there is a reasonable certainty that no harm will result from aggregate exposure to the pesticide chemical residue.

In order to describe more clearly the measurement and scope or coverage of the tolerances, EPA is proposing to revise the introductory text containing the tolerance expression in 40 CFR 180.227(a)(1) to read as follows:

Tolerances are established for residues of the herbicide dicamba, 3,6-dichloro-o-anisic acid, including its metabolites and degradates, in or on the commodities in the table in this paragraph. Compliance with the tolerance levels specified in this paragraph is to be determined by measuring only the sum of dicamba, 3,6-dichloro-o-anisic acid, and its metabolite, 3,6-dichloro-5-hydroxy-o-anisic acid, calculated as the stoichiometric equivalent of dicamba, in or on the commodity.

In order to describe more clearly the measurement and scope or coverage of the tolerances, EPA is proposing to revise the introductory text containing the tolerance expression in 40 CFR 180.227(a)(2) to read as follows:

Tolerances are established for residues of the herbicide dicamba, 3,6-dichloro-o-anisic acid, including its metabolites and degradates, in or on the commodities in the table in this paragraph. Compliance with the tolerance levels specified in this paragraph is to be determined by measuring only the sum of dicamba, 3,6-dichloro-o-anisic acid, and its metabolite, 3,6-dichloro-2-hydroxybenzoic acid, calculated as the stoichiometric equivalent of dicamba, in or on the commodity.

In order to describe more clearly the measurement and scope or coverage of the tolerances, EPA is proposing to revise the introductory text containing the tolerance expression in 40 CFR 180.227(a)(3) to read as follows:

Tolerances are established for residues of the herbicide dicamba, 3,6-dichloro-o-anisic acid, including its metabolites and degradates, in or on the commodities in the table in this paragraph. Compliance with the tolerance levels specified in this paragraph is to be determined by measuring only the sum of dicamba, 3,6-dichloro-o-anisic acid, and its metabolites, 3,6-dichloro-5-hydroxy-o-anisic acid, and 3,6-dichloro-2-hydroxybenzoic acid, calculated as the stoichiometric equivalent of dicamba, in or on the commodity.

There are no Codex MRLs for dicamba.

4. Dicloran (DCNA). On December 2, 2009, EPA published a notice in the Federal Register (74 FR 63151) (FRL-8800-4) that announced the Agency's receipt of requests from the registrants to voluntarily amend certain dicloran registrations and therefore terminate the last dicloran uses on carrots. EPA approved amendment of the affected DCNA registrations by publishing a cancellation order on March 31, 2010 in the Federal Register (75 FR 16105) (FRL-8815-8) and made them effective on November 2, 2010, and permitted the dicloran registrant to sell and distribute existing dicloran stocks (concerning the last uses for carrots) until November 2, 2010. For all affected dicloran products, the Agency permitted persons other than the registrant to sell and distribute existing stocks and use of those cancelled products until exhaustion. However, the Agency believes that end users will have had sufficient time to exhaust those existing stocks and for treated carrot commodities to have cleared the channels of trade by November 2, 2011. Therefore, EPA is proposing to revoke the tolerance in 40 CFR 180.200(a)(1) for carrot, roots, postharvest with an expiration/revocation date of November 2, 2011.

In order to describe more clearly the measurement and scope or coverage of the tolerances, EPA is proposing to revise the introductory text containing the tolerance expression in 40 CFR 180.200(a)(1) to read as follows:

Tolerances are established for residues of the fungicide dicloran, 2,6-dichloro-4-nitroaniline, including its metabolites and degradates, in or on the commodities in the table in this paragraph. Compliance with the tolerance levels specified in this paragraph is to be determined by measuring only dicloran, 2,6-dichloro-4-nitroaniline, in or on the commodity. Unless otherwise specified, these tolerances prescribed in this paragraph provide for residues from preharvest application only.

There are Codex MRLs for dicloran, including an MRL on carrot at 15 mg/kg, and MRLs on other plant commodities.

5. Diquat. Currently, the only active registrations for diquat use on both sorghum grain and soybeans are for seed crops, and both uses have restrictions to not graze or feed treated forage to livestock and not use seed from treated plants for food, feed, or oil purposes. Given the restrictions, such uses are considered by the Agency to be non-food, and therefore the tolerances are no longer needed and should be revoked. Consequently, EPA is proposing to revoke the tolerances in 40 CFR 180.226(a)(1) on sorghum, grain, grain and soybean, seed.

There are Codex MRLs for diquat on sorghum at 2 mg/kg and on soybean (dry) at 0.2 mg/kg.

6. Disulfoton. On July 22, 2009, EPA published a notice in the Federal Register (74 FR 36204) (FRL-8427-2) that announced the Agency's receipt of requests from the registrants to voluntarily cancel all disulfoton and methamidophos registrations and therefore terminate the last disulfoton and methamidophos products registered for use in the United States, including the last disulfoton uses on asparagus, lima and snap beans, broccoli, Brussels sprouts, cabbage, cauliflower, coffee, cotton, and lettuce. EPA approved cancellation of the registrations by publishing a cancellation order on September 23, 2009 in the Federal Register (74 FR 48551) (FRL-8437-1) and made them effective on September 23, 2009, and permitted the disulfoton registrants to sell and distribute existing disulfoton stocks (concerning the last uses for asparagus, lima and snap beans, broccoli, Brussels sprouts, cabbage, cauliflower, cotton, and lettuce) until December 31, 2010 and stocks of a single registration (264-723) with the last coffee use until June 30, 2011. For all affected disulfoton products, the Agency permitted persons other than the registrant to sell and distribute existing stocks and use of those cancelled products until exhaustion. However, the Agency believes that end users will have had sufficient time to exhaust those existing stocks and for treated asparagus, lima and snap beans, broccoli, Brussels sprouts, cabbage, cauliflower, cotton, and lettuce commodities to have cleared the channels of trade by December 31, 2012 and treated coffee commodities to have cleared the channels of trade by June 30, 2013. Therefore, EPA is proposing to revoke the tolerances in 40 CFR 180.183(a) for bean, lima; bean, snap, succulent; broccoli; Brussels sprouts; cabbage; cauliflower; cotton, undelinted seed; lettuce, head; and lettuce, leaf with expiration/revocation dates of December 31, 2012. Also, because there had been only active FIFRA section 24(c) registrations for use of disulfoton on asparagus, EPA is proposing to revoke the regional tolerance in 40 CFR 180.183(c) on asparagus with an expiration/revocation date of December 31, 2012. In addition, EPA is proposing to revoke the tolerance in 40 CFR 180.183(a) for coffee, green bean with an expiration/revocation date of June 30, 2013.

Because the tolerances for combined disulfoton residues of concern expired on October 14, 2009, EPA is proposing to remove the tolerances in 40 CFR 180.183(a) on spinach and tomato. Also, because the tolerances for combined disulfoton residues of concern expired on January 30, 2010, EPA is proposing to remove the tolerances in 40 CFR 180.183(a) on barley, grain; barley, straw; cattle, fat; cattle, meat; cattle, meat byproducts; goat, fat; goat, meat; goat, meat byproducts; grain, aspirated fractions; hog, fat; hog, meat; hog, meat byproducts; horse, fat; horse, meat; horse, meat byproducts; milk; peanut; pepper; potato; sheep, fat; sheep, meat; sheep, meat byproducts; wheat, grain; wheat, hay; and wheat, straw.

In order to describe more clearly the measurement and scope or coverage of the tolerances, EPA is proposing to revise the section heading in 40 CFR 180.183 from O,O-diethyl S-(2-(ethylthio)ethyl) phosphorodithioate to disulfoton and revise the introductory text containing the tolerance expression in 40 CFR 180.183(a) to read as follows:

Tolerances are established for residues of the insecticide disulfoton, O,O-diethyl S-(2-(ethylthio)ethyl) phosphorodithioate, including its metabolites and degradates, in or on the commodities in the table in this paragraph. Compliance with the tolerance levels specified in this paragraph is to be determined by measuring only the sum of disulfoton, O,O-diethyl S-(2-(ethylthio)ethyl) phosphorodithioate, and its metabolites demeton-S,O,O-diethyl S-(2-(ethylthio)ethyl) phosphorothioate; disulfoton sulfoxide, O,O-diethyl S-(2-(ethylsulfinyl)ethyl) phosphorodithioate; disulfoton oxygen analog sulfoxide, O,O-diethyl S-(2-(ethylsulfinyl)ethyl) phosphorothioate, disulfoton sulfone, O,O-diethyl S-(2-(ethylsulfonyl)ethyl) phosphorodithioate; and disulfoton oxygen analog sulfone, O,O-diethyl S-(2-(ethylsulfonyl)ethyl) phosphorothioate; calculated as the stoichiometric equivalent of disulfoton, in or on the commodity.

In order to describe more clearly the measurement and scope or coverage of the tolerances, EPA is proposing to revise the introductory text containing the regional tolerance expression in 40 CFR 180.183(c) to read as follows:

A tolerance with regional registration is established for residues of the insecticide disulfoton, O,O-diethyl S-(2-(ethylthio)ethyl) phosphorodithioate, including its metabolites and degradates, in or on the commodity in the table in this paragraph. Compliance with the tolerance levels specified in this paragraph is to be determined by measuring only the sum of disulfoton, O,O-diethyl S-(2-(ethylthio)ethyl) phosphorodithioate, and its metabolites demeton-S, O,O-diethyl S-(2-(ethylthio)ethyl) phosphorothioate; disulfoton sulfoxide, O,O-diethyl S-(2-(ethylsulfinyl)ethyl) phosphorodithioate; disulfoton oxygen analog sulfoxide, O,O-diethyl S-(2-(ethylsulfinyl)ethyl) phosphorothioate, disulfoton sulfone, O,O-diethyl S-(2-(ethylsulfonyl)ethyl) phosphorodithioate; and disulfoton oxygen analog sulfone, O,O-diethyl S-(2-(ethylsulfonyl)ethyl) phosphorothioate; calculated as the stoichiometric equivalent of disulfoton, in or on the commodity.

There are Codex MRLs for disulfoton, including those on asparagus at 0.02 mg/kg, coffee beans at 0.2 mg/kg, common bean (pods and/or immature seeds) at 0.2 mg/kg, cotton, seed at 0.1 mg/kg, and other commodities.

7. EPTC. Because cotton forage is no longer considered by the Agency to be a significant livestock feed commodity as delineated in “Table 1.—Raw Agricultural and Processed Commodities and Feedstuffs Derived from Crops,” which is found in Residue Chemistry Test Guidelines OPPTS 860.1000, dated August 1996 (available at http://www.epa.gov/opptsfrs/publications/OPPTS_Harmonized/860_Residue_Chemistry_Test_Guidelines/Series/), EPA determined that the tolerance is no longer needed, and therefore should be revoked. Consequently, the Agency is proposing to revoke the tolerance in 40 CFR 180.117 for residues of S-ethyl dipropylthiocarbamate (EPTC) in or on cotton, forage.

Because there have been no active S-ethyl dipropylthiocarbamate registrations in the United States for use on asparagus, small fruits (including strawberries), flax seeds, and pineapples for more than 10 years, the tolerances are no longer needed and therefore should be revoked. Consequently, EPA is proposing to revoke the tolerances in 40 CFR 180.117 on asparagus; fruit, small; strawberry; flax, seed; and pineapple.

Because castor beans and oil products are not consumed by humans or livestock, EPA determined that the tolerance is no longer needed and therefore should be revoked. Consequently, EPA is proposing to revoke the tolerance in 40 CFR 180.117 on castorbean, seed.

EPA is proposing, in 40 CFR 180.117, to remove the “(N)” designation from all entries to conform to current Agency administrative practice (“N” designation means negligible residues). Also, tolerances are currently established in 40 CFR 180.117 for negligible residues of the herbicide S-ethyl dipropylthiocarbamate, also called EPTC. EPA determined that EPTC plant residues of toxicological concern are EPTC, EPTC sulfoxide, EPTC sulfone, and the EPTC conjugates (glutathione, cysteine, N-malonyl cysteine, S-lactic acid, and O-malonyl S-lactic acid conjugates). However, the Agency concurred with the registrant's position that development of a single enforcement analytical method that can detect each of these residues was not feasible. Because development of an enforcement analytical method for the hydroxylated metabolites (S-ethyl (2-hydroxypropyl)propylcarbamothioate, S-(2-hydroxyethyl)dipropylcarbamothioate, and S-ethyl (3-hydroxypropyl)propylcarbamothioate) was feasible, the Agency concurred with the registrant's recommendation that EPTC and its hydroxylated metabolites be used as marker residues of EPTC residues of toxicological concern. Therefore, in order to describe more clearly the measurement and scope or coverage of the tolerances, EPA is proposing to redesignate the existing paragraph from 40 CFR 180.117 to 180.117(a) and revise the introductory text containing the tolerance expression in newly designated 40 CFR 180.117(a) to include its hydroxylated metabolites as marker residues of S-ethyl dipropylthiocarbamate residues of toxicological concern (i.e., markers of EPTC, EPTC sulfoxide, EPTC sulfone, and the EPTC conjugates resulting from the glutathione-S-transferase pathway), to read as follows:

Tolerances are established for residues of the herbicide S-ethyl dipropylthiocarbamate, including its metabolites and degradates, in or on the commodities in the table in this paragraph. Compliance with the tolerance levels specified in this paragraph is to be determined by measuring only the sum of S-ethyl dipropylthiocarbamate, S-ethyl (2-hydroxypropyl)propylcarbamothioate, S-(2-hydroxyethyl)dipropylcarbamothioate, and S-ethyl (3-hydroxypropyl)propylcarbamothioate, calculated as the stoichiometric equivalent of S-ethyl dipropylthiocarbamate, in or on the commodity.

The majority of the current crop groupings for residues of EPTC are based on obsolete crop groupings and, for many, the minimum data requirements for the establishment of crop group tolerances were not satisfied. Therefore, in the EPTC RED, the Agency recommended revocation of crop group tolerances, concomitant with the establishment of individual tolerances for the affected commodities.

Based on available field trial data that showed residues of S-ethyl dipropylthiocarbamate and its hydroxylated metabolites were <0.09 ppm in or on potatoes and <0.11 ppm in on sugar beet roots, the Agency determined that the tolerance for the obsolete group, vegetable, root, should be revoked and individual tolerances should be established for beet, garden, roots; beet, sugar, roots; potato; and sweet potato (based on translation of available data from potatoes). Therefore, EPA is proposing in newly designated and revised 40 CFR 180.117(a) to revoke the tolerance on vegetable, root at 0.1 ppm and establish tolerances on beet, garden, roots at 0.1 ppm; beet, sugar, roots at 0.1 ppm; potato at 0.1 ppm; and sweet potato, roots at 0.1 ppm. Also, based on processing data that showed combined residues of EPTC and its hydroxylated metabolites were as high as <0.80 ppm in molasses that was processed from the raw agricultural commodity (sugar beet roots) with residues as high as <0.2 ppm (after application at 2X the maximum exposure rate), the Agency determined that combined residues had concentrated in molasses by a factor of 4X and that after a 1X application on sugar beet roots, residues in molasses would be expected at <0.1 ppm. Therefore, EPA is proposing to establish a tolerance in newly designated and revised 40 CFR 180.117(a) on beet, sugar, molasses at 0.4 ppm.

Based on available field trial data that showed residues of S-ethyl dipropylthiocarbamate and its hydroxylated metabolites were non-detectable (<0.05 ppm and <0.01 ppm for each of the three hydroxylated metabolites; i.e., the Limit of Quantitation (LOQ) of the enforcement method for EPTC and its hydroxylated metabolites, respectively) in or on almond nutmeats and hulls, and walnut nutmeats, the Agency determined that the tolerance for the obsolete group, nut, should be revoked and individual tolerances should be established for almond, nutmeat and walnut, nutmeat; each at 0.08 ppm (0.05 ppm for EPTC and 0.03 ppm for the combined hydroxylated metabolites), and decrease almond, hulls from 0.1 ppm to 0.08 ppm. Therefore, EPA is proposing in newly designated and revised 40 CFR 180.117(a) to revoke the tolerance on nut at 0.1 ppm and establish tolerances on almond at 0.08 ppm and walnut at 0.08 ppm, and decrease the tolerance on almond, hulls to 0.08 ppm.

Based on available field trial data that showed residues of S-ethyl dipropylthiocarbamate and its hydroxylated metabolites were non-detectable (<0.05 ppm and <0.01 ppm for each of the three hydroxylated metabolites; i.e., the LOQ of the enforcement method for EPTC and its hydroxylated metabolites, respectively) in or on tomatoes, the Agency determined that the tolerance for the obsolete group, vegetable, fruiting, should be revoked and an individual tolerance should be established for tomato at 0.08 ppm (0.05 ppm for EPTC and 0.03 ppm for the combined hydroxylated metabolites). Therefore, EPA is proposing in newly designated and revised 40 CFR 180.117(a) to revoke the tolerance on vegetable, fruiting at 0.1 ppm and establish a tolerance on tomato at 0.08 ppm.

Based on available field trial data that showed residues of S-ethyl dipropylthiocarbamate were non-detectable (<0.05 ppm) in or on alfalfa forage and hay, and clover forage and hay, and maximum total residues of EPTC hydroxylated metabolites were 0.18 ppm in or on alfalfa forage, 0.61 ppm in or on alfalfa hay, 0.01 ppm in or on clover forage, and 0.05 ppm in or on clover hay, the Agency determined that the tolerance for the obsolete group, legume, forage, should be revoked and individual tolerances should be established for alfalfa, forage at 0.2 ppm and alfalfa, hay at 0.6 ppm, clover, forage at 0.1 ppm, and clover, hay at 0.1 ppm. Also, the Agency determined that the data for clover forage and hay can be translated to the forage and hay of trefoil and lespedeza, and therefore individual tolerances for each of them should be established at 0.1 ppm. Consequently, EPA is proposing in newly designated and revised 40 CFR 180.117(a) to revoke the tolerance on legume, forage at 0.1 ppm and establish tolerances on alfalfa, forage at 0.2 ppm, alfalfa, hay at 0.6 ppm, clover, forage at 0.1 ppm, clover, hay at 0.1 ppm, lespedeza, forage at 0.1 ppm, lespedeza, hay at 0.1 ppm, trefoil, forage at 0.1 ppm, and trefoil, hay at 0.1 ppm.

Based on available field trial data that showed residues of S-ethyl dipropylthiocarbamate were non-detectable (<0.05 ppm) in or on sugar beet tops, and maximum total residues of EPTC and its hydroxylated metabolites were <0.47 ppm in or on sugar beet tops, the Agency determined that the tolerance for the obsolete group, vegetable, leafy, should be revoked and individual tolerances should be established for beet, garden, tops at 0.5 ppm and beet, sugar, tops at 0.5 ppm. Therefore, EPA is proposing in newly designated and revised 40 CFR 180.117(a) to revoke the tolerance on vegetable, leafy at 0.1 ppm and establish tolerances on beet, garden, tops at 0.5 ppm and beet, sugar, tops at 0.5 ppm.

Based on available field trial data that showed residues of S-ethyl dipropylthiocarbamate and its hydroxylated metabolites were non-detectable (<0.05 ppm and <0.01 ppm for each of the three hydroxylated metabolites; i.e., the LOQ of the enforcement method for EPTC and its hydroxylated metabolites, respectively) in or on beans (succulent and dry), the Agency determined that the tolerance for the obsolete group, vegetable, seed and pod, should be revoked and individual tolerances should be established for bean, dry, seed; bean, succulent; and pea, succulent (based on translation of available data from succulent beans); each at 0.08 ppm (0.05 ppm for EPTC and 0.03 ppm for the combined hydroxylated metabolites). Therefore, EPA is proposing in newly designated and revised 40 CFR 180.117(a) to revoke the tolerance on vegetable, seed and pod at 0.1 ppm and establish tolerances on bean, dry, seed at 0.08 ppm, bean, succulent at 0.08 ppm, and pea, succulent at 0.08 ppm.

Based on available field trial data that showed residues of S-ethyl dipropylthiocarbamate and its hydroxylated metabolites were non-detectable (<0.05 ppm and <0.01 ppm for each of the three hydroxylated metabolites; i.e., the LOQ of the enforcement method for EPTC and its hydroxylated metabolites, respectively) in or on field corn grain or sweet corn ear, the Agency determined that the tolerance for the obsolete group, grain, crop, should be revoked, data could be translated from field corn grain to popcorn grain, and individual tolerances should be established for corn, field, grain; corn, pop, grain; and corn, sweet, kernel plus cob with husks removed; each at 0.08 ppm (0.05 ppm for EPTC and 0.03 ppm for the combined hydroxylated metabolites). Therefore, EPA is proposing in newly designated and revised 40 CFR 180.117(a) to revoke the tolerance on grain, crop at 0.1 ppm and establish tolerances on corn, field, grain at 0.08 ppm, corn, pop, grain at 0.08 ppm, and corn, sweet, kernel plus cob with husks removed at 0.08 ppm.

Based on available field trial data that showed residues of S-ethyl dipropylthiocarbamate and its hydroxylated metabolites were non-detectable (<0.05 ppm and <0.01 ppm for each of the three hydroxylated metabolites; i.e., the LOQ of the enforcement method for EPTC and its hydroxylated metabolites, respectively) in or on field corn forage and stover, and sweet corn forage and ears, the Agency determined that the tolerance for the obsolete group, grass, forage, should be revoked, data could be translated from field corn stover to popcorn stover, and individual tolerances should be established for corn, field, forage; corn, field, stover; corn, pop, stover; corn, sweet, forage; and corn, sweet, stover; each at 0.08 ppm (0.05 ppm for EPTC and 0.03 ppm for the combined hydroxylated metabolites). Therefore, EPA is proposing in newly designated and revised 40 CFR 180.117(a) to revoke the tolerance on grass, forage at 0.1 ppm and establish tolerances on corn, field, forage at 0.08 ppm, corn, field, stover at 0.08 ppm, corn, pop, stover at 0.08 ppm, corn, sweet, forage at 0.08 ppm, and corn, sweet, stover at 0.08 ppm.

Based on available field trial data that showed residues of S-ethyl dipropylthiocarbamate and its hydroxylated metabolites were non-detectable (<0.05 ppm and <0.01 ppm for each of the three hydroxylated metabolites; i.e., the LOQ of the enforcement method for EPTC and its hydroxylated metabolites, respectively) in or on cottonseed, safflower seeds, and sunflower seeds, the Agency determined that the tolerances on cottonseed, safflower seed, and sunflower seed should be decreased from 0.1 to 0.08 ppm (0.05 ppm for EPTC and 0.03 ppm for the combined hydroxylated metabolites). Therefore, EPA is proposing in newly designated and revised 40 CFR 180.117(a) to decrease the tolerances on cotton, undelinted seed to 0.08 ppm; safflower, seed to 0.08 ppm; and sunflower, seed to 0.08 ppm.

Based on available field trial data that showed residues of S-ethyl dipropylthiocarbamate and its hydroxylated metabolites were <0.05 ppm for EPTC and each of the three hydroxylated metabolites (total combined residues were <0.20 ppm) in or on cotton gin byproducts, the Agency determined that a tolerance should be established at 0.20 ppm. Therefore, EPA is proposing in newly designated and revised 40 CFR 180.117(a) to establish a tolerance on cotton, gin byproducts at 0.20 ppm.

In accordance with current Agency practice, EPA is proposing to revise 40 CFR 180.117 by adding separate paragraphs (b), (c), and (d), and reserving those paragraphs with tolerance exemptions for section 18 emergency exemptions, tolerances with regional registrations, and tolerances with indirect or inadvertent residues, respectively. Also EPA is proposing to revise the nomenclature and tolerance in newly designated and revised 40 CFR 180.117(a) from “fruit, citrus” to “fruit, citrus, group 10.”

There are no Codex MRLs for EPTC.

8. Ethoprop. On May 27, 2009, EPA published a notice in the Federal Register (74 FR 25237) (FRL-8418-2) that announced the Agency's receipt of request from the registrant to voluntarily amend a registration and therefore terminate the last ethoprop use in the United States on pineapple. EPA approved amendment of the registration by issuing a cancellation order on July 9, 2009 to the registrant, made it effective on July 23, 2009, and permitted the registrant to sell and distribute existing ethoprop stocks of the amended registration (concerning pineapple use deletion) for 18 months after July 9, 2009; i.e., until January 9, 2011. The Agency permitted persons other than the registrant to sell and distribute existing stocks and use of the affected ethoprop product until exhaustion. However, the Agency believes that end users will have had sufficient time to exhaust those existing stocks and for ethoprop treated pineapple commodities to have cleared the channels of trade by January 9, 2012. Therefore, EPA is proposing to revoke the tolerance in 40 CFR 180.262(a) for pineapple with an expiration/revocation date of January 9, 2012.

Because there have been no active registrations in the United States for ethoprop use on popcorn for more than 10 years, and therefore, tolerances covering popcorn use are no longer needed, EPA is proposing to revoke the tolerances in 40 CFR 180.262(a) on corn, pop, grain and corn, pop, stover.

In order to describe more clearly the measurement and scope or coverage of the tolerances, EPA is proposing to revise the introductory text containing the tolerance expression in 40 CFR 180.262(a) to read as follows:

Tolerances are established for residues of the nematocide and insecticide ethoprop, O-ethyl S,S-dipropyl phosphorodithioate, including its metabolites and degradates, in or on the commodities in the table in this paragraph. Compliance with the tolerance levels specified in this paragraph is to be determined by measuring only ethoprop, O-ethyl S,S-dipropyl phosphorodithioate, in or on the commodity.

There are no Codex MRLs for ethoprophos on pineapple or corn, but there are MRLs for ethoprophos on other commodities.

9. Fenamiphos. There have been no active food use registrations for fenamiphos in the United States since 2007. In a proposed rule that EPA published in the Federal Register on February 6, 2008 (73 FR 6867) (FRL-8345-2), the Agency proposed specific tolerances for multiple pesticide active ingredients, including fenamiphos, and stated that Bayer CropScience informed the Agency that it would support fenamiphos tolerances on citrus and garlic, among others, for import purposes since there were no active domestic registrations for those uses. In January 2010, Bayer CropScience informed EPA that it no longer was interested in supporting import tolerances for residues of fenamiphos in or on citrus and garlic, but would continue to support import tolerances for residues of fenamiphos in or on banana, grape, and pineapple. Because no one other than Bayer CropScience expressed an interest in retaining the fenamiphos tolerances on citrus and garlic, there is no longer a need for them. Therefore, EPA is proposing to revoke the tolerances in 40 CFR 180.349(a) on citrus, dried pulp; citrus, oil; fruit, citrus, group 10; and garlic; add a missing footnote to the tolerance for grape, raisin to reflect that it has no U.S. registrations, and revise the footnoted information for all remaining tolerances to reflect the effective cancellation date of the last fenamiphos registrations in the United States to be as of May 31, 2007.

Because the tolerances expired on December 31, 2009, EPA is proposing to remove the tolerances in 40 CFR 180.349(a) on apple; Brussels sprouts; cabbage; cherry, sweet; cherry, tart; eggplant; okra; peach; peanut; raspberry; and strawberry; in 180.349(c) on asparagus; beet, garden, roots; beet, garden, tops; cabbage, Chinese, bok choy; kiwifruit; and pepper, nonbell; and reserve paragraph (c).

Also, in order to describe more clearly the measurement and scope or coverage of the tolerances, EPA is proposing to revise the introductory text containing the tolerance expression in 40 CFR 180.349(a) to read as follows:

Tolerances are established for residues of the nematicide/insecticide fenamiphos, ethyl 3-methyl-4-(methylthio)phenyl 1-(methylethyl)phosphoramidate, including its metabolites and degradates, in or on the commodities in the table in this paragraph. Compliance with the tolerance levels specified in this paragraph is to be determined by measuring only the sum of fenamiphos, ethyl 3-methyl-4-(methylthio)phenyl 1-(methylethyl)phosphoramidate, and its cholinesterase inhibiting metabolites ethyl 3-methyl-4-(methylsulfinyl)phenyl 1-(methylethyl)phosphoramidate and ethyl 3-methyl-4-(methylsulfonyl)phenyl 1-(methylethyl)phosphoramidate, calculated as the stoichiometric equivalent of fenamiphos, in or on the commodity.

There are Codex MRLs for fenamiphos, including those on apple; banana; Brussels sprouts; cabbages, head; and peanut at 0.05 mg/kg, and other commodities.

10. Hexazinone. Currently, tolerances are expressed for the herbicide hexazinone in 40 CFR 180.396(a)(1) for the combined residues of hexazinone (3-cyclohexyl-6-(dimethylamino)-1-methyl-1,3,5-triazine-2,4-(1H, 3H)-dione) and its plant metabolites; A (3-(4-hydroxycyclohexyl)-6-(dimethylamino)-1-methyl-1,3,5-triazine-2,4-(1H, 3H)-dione, B (3-cyclohexyl-6-(methylamino)-1-methyl-1,3,5-triazine-2,4-(1H, 3H)-dione), C (3-(4-hydroxycyclohexyl)-6-(methylamino)-1-methyl-1,3,5-triazine-2,4-(1H, 3H)-dione), D (3-cyclohexyl)-1-methyl-1,3,5-triazine-2,4,6-(1H, 3H, 5H)-trione), and E (3-(4-hydroxycyclohexyl)-1-methyl-1,3,5-triazine-2,4,6-(1H, 3H, 5H)-trione) (calculated as hexazinone). In order to describe more clearly the measurement and scope or coverage of the tolerances, EPA is proposing to revise the introductory text containing the tolerance expression in 40 CFR 180.396(a)(1) to read as follows:

Tolerances are established for residues of the herbicide hexazinone, 3-cyclohexyl-6-(dimethylamino)-1-methyl-1,3,5-triazine-2,4-(1H, 3H)-dione, including its metabolites and degradates, in or on the commodities in the table in this paragraph. Compliance with the tolerance levels specified in this paragraph is to be determined by measuring only the sum of hexazinone, 3-cyclohexyl-6-(dimethylamino)-1-methyl-1,3,5-triazine-2,4-(1H, 3H)-dione, and its plant metabolites: metabolite A, 3-(4-hydroxycyclohexyl)-6-(dimethylamino)-1-methyl-1,3,5-triazine-2,4-(1H, 3H)-dione, metabolite B, 3-cyclohexyl-6-(methylamino)-1-methyl-1,3,5-triazine-2,4-(1H, 3H)-dione, metabolite C, 3-(4-hydroxycyclohexyl)-6-(methylamino)-1-methyl-1,3,5-triazine-2,4-(1H, 3H)-dione, metabolite D, 3-cyclohexyl-1-methyl-1,3,5-triazine-2,4,6-(1H, 3H, 5H)-trione, and metabolite E, 3-(4-hydroxycyclohexyl)-1-methyl-1,3,5-triazine-2,4,6-(1H, 3H, 5H)-trione, calculated as the stoichiometric equivalent of hexazinone, in or on the commodity.

Based on available field trial data that showed combined hexazinone residues of concern as high as 183 ppm in or on grass forage at a 0-day PHI and 133 ppm in or on grass, hay at a 14 to 38-day PHI, EPA determined that the tolerance for grass forage should be increased from 10 to 250 ppm, and a tolerance for grass hay should be established at 230 ppm. Therefore, EPA is proposing to increase the tolerance in 40 CFR 180.396(a)(1) on grass, forage to 250 ppm and establish a tolerance in 40 CFR 180.396(a)(1) on grass, hay at 230 ppm. The Agency determined that the increased tolerance is safe; i.e., there is a reasonable certainty that no harm will result from aggregate exposure to the pesticide chemical residue.

Based on available field trial data that showed combined hexazinone residues of concern as high as <3.33 ppm in or on alfalfa hay, EPA determined that the tolerance on alfalfa hay should be decreased from 8.0 to 4.0 ppm. Therefore, the Agency is proposing in 40 CFR 180.396(a)(1) to decrease the tolerance on alfalfa, hay to 4.0 ppm.

In order to describe more clearly the measurement and scope or coverage of the tolerances, EPA is proposing to revise the introductory text containing the tolerance expression in 40 CFR 180.396(a)(2) to read as follows:

Tolerances are established for residues of the herbicide hexazinone, 3-cyclohexyl-6-(dimethylamino)-1-methyl-1,3,5-triazine-2,4-(1H, 3H)-dione, including its metabolites and degradates, in or on the commodities in the table in this paragraph. Compliance with the tolerance levels specified in this paragraph is to be determined by measuring only the sum of hexazinone, 3-cyclohexyl-6-(dimethylamino)-1-methyl-1,3,5-triazine-2,4-(1H, 3H)-dione, and its animal tissue metabolites: metabolite B, 3-cyclohexyl-6-(methylamino)-1-methyl-1,3,5-triazine-2,4-(1H, 3H)-dione, and metabolite F, 3-cyclohexyl-6-amino-1-methyl-1,3,5-triazine-2,4-(1H, 3H)-dione, calculated as the stoichiometric equivalent of hexazinone, in or on the commodity.

In order to describe more clearly the measurement and scope or coverage of the tolerances, EPA is proposing to revise the introductory text containing the tolerance expression in 40 CFR 180.396(a)(3) to read as follows:

A tolerance is established for residues of the herbicide hexazinone, 3-cyclohexyl-6-(dimethylamino)-1-methyl-1,3,5-triazine-2,4-(1H, 3H)-dione, including its metabolites and degradates, in or on the commodity in the table in this paragraph. Compliance with the tolerance level specified in this paragraph is to be determined by measuring only the sum of hexazinone, 3-cyclohexyl-6-(dimethylamino)-1-methyl-1,3,5-triazine-2,4-(1H, 3H)-dione, and its metabolites: metabolite B, 3-cyclohexyl-6-(methylamino)-1-methyl-1,3,5-triazine-2,4-(1H, 3H)-dione, metabolite C, 3-(4-hydroxycyclohexyl)-6-(methylamino)-1-methyl-1,3,5-triazine-2,4-(1H, 3H)-dione, metabolite C-2, 3-(3-hydroxycyclohexyl)-6-(methylamino)-1-methyl-1,3,5-triazine-2,4-(1H, 3H)-dione, and metabolite F, 3-cyclohexyl-6-amino-1-methyl-1,3,5-triazine-2,4-(1H, 3H)-dione, calculated as the stoichiometric equivalent of hexazinone, in or on the commodity.

In the Federal Register of September 27, 2006 (71 FR 56392) (FRL-8089-6), EPA published a final tolerance rule for several active pesticide ingredients, including hexazinone. Because the Agency received a comment from DuPont Crop Protection which stated that it would be submitting grass residue data and expected increased residues that would warrant revision of existing tolerances for both grass and hay as livestock feed commodities, EPA did not finalize revocation of certain livestock tolerances for hexazinone, in 40 CFR 180.396, at that time. Upon review of the submitted data, EPA has determined that tolerances on the fat of cattle, goats, hogs, horses, and sheep should be maintained at 0.1 ppm. However, based on available field trial data for grass and hay, and a recalculation of dietary burden that show the maximum total hexazinone residues were 3.85 ppm in liver, 2.19 ppm in kidney, 0.32 ppm in muscle, <0.1 ppm in fat, and 11.09 ppm in milk, the Agency determined that meat byproduct tolerances of cattle, goats, hogs, horses, and sheep should be increased from 0.1 to 4.0 ppm; meat tolerances of cattle, goats, hogs, horses, and sheep should be increased from 0.1 to 0.5 ppm, and the milk tolerance should be increased from 0.2 to 11 ppm. Therefore, EPA is proposing to increase the tolerances in 40 CFR 180.396(a)(2) on cattle, meat byproducts; goat, meat byproducts; hog, meat byproducts; horse, meat byproducts; and sheep, meat byproducts; each to 4.0 ppm; and on cattle, meat; goat, meat; hog, meat; horse, meat; and sheep, meat; each to 0.5 ppm. Also, EPA is proposing to increase the tolerance in 40 CFR 180.396(a)(3) on milk to 11 ppm. The Agency determined that the increased tolerances are safe; i.e., there is a reasonable certainty that no harm will result from aggregate exposure to the pesticide chemical residue.

Also, in the Federal Register of September 27, 2006 (71 FR 56392), EPA agreed with a comment from DuPont Crop Protection which stated that registrations for use of hexazinone on sugarcane in Florida are active and that the current regional tolerances for sugarcane be designated as general tolerances. Therefore, EPA is proposing to revoke the regional tolerances in 40 CFR 180.396(c) on sugarcane, cane at 0.6 ppm and sugarcane, molasses at 4.0 ppm, reserve paragraph (c) for tolerances with regional registrations, and establish tolerances in 40 CFR 180.396(a)(1) on sugarcane, cane at 0.6 ppm and sugarcane, molasses at 4.0 ppm.

There are no Codex MRLs for hexazinone.

11. Malathion. Based on available ruminant and poultry metabolism data at exaggerated feeding rates of malathion-treated livestock feeds and that no active registrations for direct animal treatment with malathion have existed since March 2005, EPA determined that there is no reasonable expectation of finite residues of malathion in fat, meat, and meat byproducts of cattle, goats, hogs, horses, poultry, and sheep; milk fat; and eggs. These tolerances are no longer needed under 40 CFR 180.6(a)(3). Therefore, EPA is proposing to revoke the tolerances in 40 CFR 180.111(a)(3) for residues of malathion in or on egg; milk, fat; cattle, fat; cattle, meat; cattle, meat byproducts; goat, fat; goat, meat; goat, meat byproducts; hog, fat; hog, meat; hog, meat byproducts; horse, fat; horse, meat; horse, meat byproducts; poultry, fat; poultry, meat; poultry, meat byproducts; sheep, fat; sheep, meat; and sheep, meat byproducts; and therefore, remove paragraph (a)(3) in its entirety, including its footnote.

On May 20, 2009, EPA published a notice in the Federal Register (74 FR 23708) (FRL-8414-2) that announced the Agency's receipt of requests from the registrants to voluntarily cancel or amend specific malathion registrations and therefore terminate specific uses, including the last use on cranberries for malathion products registered for use in the United States. EPA approved cancellation of these registrations and uses by publishing a cancellation order on July 15, 2009 in the Federal Register (74 FR 34345) (FRL-8425-3) and made them effective on July 15, 2009, and permitted the malathion registrants, including the registrant who requested to amend to terminate the use on cranberry, to sell and distribute existing malathion stocks (concerning the last use for cranberry) for 1 year from the effective date of July 15, 2009; i.e., until July 15, 2010. The Agency permitted persons other than the registrant to sell and distribute existing stocks and use of those cancelled products until exhaustion. However, the Agency believes that end users will have had sufficient time to exhaust those existing stocks and for treated cranberry commodities to have cleared the channels of trade by July 15, 2011. Therefore, EPA is proposing to revoke the tolerance in 40 CFR 180.111(a)(1) on cranberry with an expiration/revocation date of July 15, 2011.

Based on available processing data that showed combined residues of malathion and malaoxon on whole grapes were higher than those on raisins from pre-harvest grapes treated at 5X the maximum single application rate, the Agency determined that malathion residues of concern did not concentrate in raisins. Also, while there are active registrations for the pre-harvest use of malathion on grapes, covered by the tolerance on grapes at 8 ppm in 40 CFR 180.111(a)(1), there have been no active malathion registrations in the United States for malathion use on raisins or paper trays for drying grapes to raisins for more than 10 years. Therefore, the tolerance in currently existing 40 CFR 180.111(a)(4) on raisin at 12 ppm is no longer needed and should be revoked. Consequently, EPA is proposing to revoke the tolerance in currently existing 40 CFR 180.111(a)(4) on raisins at 12 ppm resulting from drying of grape on treated trays and from application to grape before harvest, and remove paragraphs (a)(4) and (a)(6) in their entireties.

Because there have been no active malathion registrations in the United States for use on paper used in packaging non-medicated cattle feed concentrate blocks since 1997, use on bagged citrus pulp since 1997, use on sunflower commodities since 2002, safflower commodities since 2003, and peanut commodities since early 2007, the tolerances are no longer needed and therefore should be revoked. Consequently, EPA is proposing to revoke the tolerances in 40 CFR 180.111(a)(1) on sunflower, seed, postharvest; safflower, seed; peanut, hay; peanut, postharvest; the tolerance in currently existing 40 CFR 180.111(a)(5) on safflower, refined oil, and remove paragraph (a)(5) in its entirety; and the tolerances in currently existing 40 CFR 180.111(a)(7)(i) on citrus, dried pulp as the result of the application to bagged citrus pulp during storage, and in currently existing 40 CFR 180.111(a)(7)(ii) on non-medicated cattle feed concentrate blocks as the result of application to paper used in its packaging, and remove paragraph (a)(7) in its entirety.

In order to conform to current Agency practice in 40 CFR 180.111(a)(1), EPA is proposing to revise the commodity terminology from “bean, dry seed” to “bean, dry, seed.”

There are no Codex MRLs for malathion on egg, milk, or animal commodities; however, there are Codex MRLs for malathion on citrus fruits and other specific plant commodities.

12. Methamidophos. On July 22, 2009, EPA published a notice in the Federal Register (74 FR 36204) (FRL-8427-2) that announced the Agency's receipt of requests from the registrants to voluntarily cancel all disulfoton and methamidophos registrations and therefore terminate the last disulfoton and methamidophos products registered for use in the United States, including the last methamidophos uses on cotton, potato, and tomato. EPA approved cancellation of the registrations by publishing a cancellation order on September 23, 2009 in the Federal Register (74 FR 48551) (FRL-8437-1) and made them effective on September 23, 2009, and permitted the methamidophos registrant to sell and distribute existing methamidophos stocks (concerning cotton, potato, and tomato use) until December 31, 2010. For all affected methamidophos products, the Agency permitted persons other than the registrant to sell and distribute existing stocks and use of those cancelled products until exhaustion. However, the Agency believes that end users will have had sufficient time to exhaust those existing stocks and for treated cotton, potato, and tomato commodities to have cleared the channels of trade by December 31, 2012. Therefore, EPA is proposing to revoke the tolerances in 40 CFR 180.315(a) on cotton, undelinted seed, potato, and tomato with expiration/revocation dates of December 31, 2012. Also, because the last registrations for use of methamidophos on tomatoes were FIFRA section 24(c) registrations and there are no active registrations for use of acephate on tomatoes, the Agency has determined that the tomato tolerance should be redesignated as a regional tolerance. In addition, on May 23, 2007 (72 FR 28912) (FRL-8130-8), EPA published a proposed rule in the Federal Register concerning a number of pesticide active ingredients and proposed tolerance actions, including the proposed recodification of the methamidophos tolerance in 40 CFR 180.315 on tomato as a regional tolerance and an increase from 1.0 to 2.0 ppm based on data that showed residues as high as 1.4 ppm. During the public comment period, the Agency received comment from the California Department of Pesticide Regulation (CDPR), who asked that the tolerance in 40 CFR 180.315 on tomato be decreased to 0.3 ppm in order to be health protective. The suggested decrease was based on CDPR's dietary risk assessments for methamidophos at the 95th percentile for exposure and a tolerance level of 1 ppm, and not using a percent crop treated (PCT) adjustment for tomato. On September 26, 2007 (72 FR 54574) (FRL-8147-6), EPA published a final rule in the Federal Register in follow-up to the proposed rule of May 23, 2007 (72 FR 28912) and announced that it would not take action on methamidophos tolerances at that time based upon comments and issues concerning several commodities. However, EPA estimates dietary risks based on tolerance levels only as a screening tool. If risks are unacceptable using tolerance levels, a number of refinements can be made including the use of the entire distribution of field trial data, monitoring data, average residue levels for blended commodities, and PCT data. When using PCT data in dietary risk assessment, it is the Agency's policy to regulate at a higher percentile of exposure, typically the 99.9th percentile, to assure protection of public health. Using these refinements provides more accurate estimates of the level of pesticide residues present at the time of consumption and therefore more realistic dietary risk estimates. Since tolerances are established based solely on the available field trial residue data, and dietary risks can be refined in the ways described, which are not necessarily directly correlated with the tolerance level, the Agency does not agree that decreasing the current tolerance for tomato will provide any additional health protection. The Agency believes that the recommended tolerance of 2.0 ppm on tomato and the dietary risk assessment performed for methamidophos are protective of public health. Therefore, the Agency is proposing to redesignate 40 CFR 180.315(b) as 40 CFR 180.315(c), remove the tolerance on tomato from 40 CFR 180.315(a) and transfer it to newly designated and revised 40 CFR 180.315(c), revoke the tolerance on tomato with an expiration/revocation date of December 31, 2012, and increase the tolerance from 1.0 to 2.0 ppm. The Agency determined that the increased tolerance is safe; i.e., there is a reasonable certainty that no harm will result from aggregate exposure to the pesticide chemical residue.

Also, currently, tolerances for the insecticide methamidophos are expressed in 40 CFR 180.315(a) and newly designated and revised 180.315(c) for residues of methamidophos, O,S-dimethyl phosphoramidothioate. In order to describe more clearly the measurement and scope or coverage of the tolerances, EPA is proposing to revise the introductory text containing the tolerance expression in 40 CFR 180.315(a) to read as follows:

Tolerances are established for residues of methamidophos, O,S-dimethyl phosphoramidothioate, including its metabolites and degradates, in or on the commodities in the table in this paragraph as a result of the application of methamidophos. Compliance with the tolerance levels specified in this paragraph is to be determined by measuring only methamidophos, O,S-dimethyl phosphoramidothioate, in or on the commodity.

In addition, EPA is proposing to revise the introductory text containing the tolerance expression in newly designated and revised 40 CFR 180.315(c) to read as follows:

A tolerance with a regional registration is established for residues of methamidophos, O,S-dimethyl phosphoramidothioate, including its metabolites and degradates, in or on the commodity in the table in this paragraph as a result of the application of methamidophos. Compliance with the tolerance level specified in this paragraph is to be determined by measuring only methamidophos, O,S-dimethyl phosphoramidothioate, in or on the commodity.

Because there are no active registrations in the United States for methamidophos on Brussels sprouts and cauliflower since 1989; celery since 1998; and lettuce and peppers since 2001; the tolerances are no longer needed and therefore should be revoked. Consequently, EPA is proposing to revoke the tolerances in 40 CFR 180.315(a) on Brussels sprouts; cauliflower; lettuce; and pepper; and the regional tolerance in newly designated and revised 40 CFR 180.315(c) on celery.

On May 23, 2007 (72 FR 28912), EPA published a proposed rule in the Federal Register concerning a number of pesticide active ingredients and proposed tolerance actions, including the proposed revocation of methamidophos tolerances in 40 CFR 180.315 on broccoli and cabbage because there are no active registrations for uses of either methamidophos or acephate on broccoli and cabbage in the United States and therefore, the tolerances were no longer needed. However, during the public comment period, the Agency received comment from Bayer CropScience Inc. and the Canadian Horticultural Council, who each asked that the tolerances in 40 CFR 180.315 on broccoli and cabbage not be revoked to allow continuation of the importation of methamidophos-treated broccoli and cabbage commodities from Canada into the United States. On September 26, 2007 (72 FR 54574), EPA published a final rule in the Federal Register in follow-up to the proposed rule of May 23, 2007 and announced that it would not take action on methamidophos tolerances at that time. Since then, Bayer CropScience Inc. has notified the Agency of a phase-out schedule they negotiated with the Pest Management Regulatory Agency (PMRA) in Canada where the last date of methamidophos product sale (Monitor 480) by Bayer CropScience Inc. is December 31, 2010, last date of methamidophos product sale (Monitor 480) by retailers is December 31, 2011, and last date of permitted use and expiration of Monitor 480 registration in Canada is December 31, 2012. In addition, Bayer CropScience Inc. has requested that EPA maintain U.S. tolerances on broccoli and cabbage until December 31, 2012 in order to allow imports into the U.S. of broccoli and cabbage treated with methamidophos product. Therefore, EPA is proposing to revoke the tolerances in 40 CFR 180.315(a) on broccoli and cabbage with expiration/revocation dates of December 31, 2012.

In accordance with current Agency practice, EPA is proposing to revise 40 CFR 180.315 by adding paragraphs (b) and (d), and reserving those paragraphs for tolerances with section 18 emergency exemptions and indirect or inadvertent residues, respectively.

There are Codex MRLs for methamidophos, including those on cottonseed at 0.2 mg/kg and potato at 0.05 mg/kg, and other commodities.

13. Methomyl. On April 25, 2007, EPA published a notice in the Federal Register (72 FR 20541) (FRL-8125-6) that announced the Agency's receipt of requests from the registrants for amendments to delete uses, including the last methomyl uses on strawberry. After a 180-day public comment period, EPA approved the use deletions and made them effective on March 10, 2008, and permitted the methomyl registrant to sell and distribute existing methomyl stocks (concerning strawberry use) for a period of 18 months after approval of the revision; i.e., until September 10, 2009. For all affected methomyl products, the Agency permitted persons other than the registrant to sell and distribute existing stocks and use of those cancelled products until exhaustion. However, the Agency believes that end users will have had sufficient time to exhaust those existing stocks and for treated strawberry commodities to have cleared the channels of trade by September 10, 2010. Therefore, EPA is proposing to revoke the tolerance in 40 CFR 180.253(a) on strawberry on the date a final rule, in follow-up to this proposed rule, publishes in the Federal Register (which the Agency expects to occur after September 10, 2010). In addition, there have been no active food-use registrations for use of methomyl on leeks for more than 10 years and watercress since 1991, and therefore the tolerances are no longer needed and should be revoked. Consequently, EPA is proposing to revoke the tolerances in 40 CFR 180.253(a) on leek and watercress.

There are no Codex MRLs on leek, strawberry, or watercress for methomyl.

14. Methyl bromide. On September 30, 2009, EPA published a notice in the Federal Register (74 FR 50199) (FRL-8792-8) that announced the Agency's receipt of requests from the registrants for amendments to delete uses, including the last methyl bromide postharvest uses on alfalfa hay and cottonseed. On February 3, 2010 (75 FR 5582) (FRL-8805-9), EPA approved the use deletions and made them effective on February 3, 2010, and permitted the methyl bromide registrant to sell and distribute existing methyl bromide stocks (concerning alfalfa hay and cottonseed postharvest uses) until October 31, 2009. For all affected methyl bromide products, the Agency permitted persons other than the registrant to sell and distribute existing stocks until October 31, 2010, and use of those cancelled products until exhaustion. However, the Agency believes that end users will have had sufficient time to exhaust those existing stocks and for treated alfalfa hay and cottonseed commodities to have cleared the channels of trade by October 31, 2011. Therefore, EPA is proposing to revoke the tolerances in 40 CFR 180.123(a)(1) on alfalfa, hay, postharvest and cotton, undelinted seed, postharvest with expiration/revocation dates of October 31, 2011.

Because there have been no active methyl bromide registrations in the United States for postharvest use on mangos and papayas for more than 10 years, the tolerances are no longer needed and therefore should be revoked. Consequently, EPA is proposing to revoke the tolerances in 40 CFR 180.123(a)(1) on mango, postharvest and papaya, postharvest. Also, because there have been no active methyl bromide registrations in the United States for postharvest use on timothy hay since October 19, 2009, when one FIFRA section 24(c), special local need registration in California was amended to delete use on timothy hay, the tolerance is no longer needed and therefore should be revoked. The Agency believes that there will be sufficient time for product in channels of trade to be distributed and sold to users and for end users to exhaust those existing stocks and for treated timothy hay commodities to have cleared the channels of trade by October 19, 2010. Consequently, EPA is proposing to revoke the tolerance in 40 CFR 180.123(a)(1) on timothy, hay, postharvest with an expiration/revocation date of October 19, 2010.

While there are no Codex MRLs for methyl bromide, there are MRLs for the bromide ion on specific commodities, but none on alfalfa, cottonseed, mango, papaya, or timothy hay.

15. N-octyl bicycloheptene dicarboximide (MGK-264). Currently, there are tolerances in 40 CFR 180.367(a)(2) for residues of MGK-264, piperonyl butoxide, and pyrethrins at 10 ppm, 10 ppm, and 1 ppm, respectively, when these pesticides are used in combination in or on food resulting from applications in food-processing and food-storage areas, provided that the food is removed or covered prior to such use. Based on available residue data for uncovered bagged foods that showed levels of MGK-264 at <5.0 ppm, the Agency determined that the tolerance for residues of MGK-264 in or on food in food-processing and food-storage areas (where food is removed or covered prior to MGK-264 treatment) should be decreased from 10 ppm to 5 ppm, that bagged foods in warehouse storage need not be removed or covered prior to applications of formulations containing MGK-264, and that while covered or removed foods in food processing/handling establishments are not likely to have detectable residues of MGK-264, uncovered foods showed residues at >5 ppm. Also, given that a proposed food handling establishment tolerance of 5 ppm in 40 CFR 180.367(a)(2) would cover the individual fat tolerances for residues resulting from dermal application at 0.3 ppm in § 180.367(a)(1), the Agency determined that there is no longer a need for the fat tolerances at 0.3 ppm and they should be revoked. In addition, because tolerances for residues in or on food from applications in food-processing and food-storage areas currently exist in 40 CFR 180.127(a)(2)(iii) for piperonyl butoxide at 10 ppm and in 40 CFR 180.128(a)(3) for pyrethrins at 1.0 ppm, the Agency determined that the tolerances for piperonyl butoxide and pyrethrins in 40 CFR 180.367(a)(2) are duplicates which are no longer needed and should be revoked since the use would be covered by the other tolerances. Therefore, EPA is proposing to revoke the tolerances at 0.3 ppm in 40 CFR 180.367(a)(1) for N-octyl bicycloheptene dicarboximide residues resulting from dermal application in or on cattle, fat; goat, fat; hog, fat; horse, fat; milk, fat; and sheep, fat; and remove existing paragraph (a)(1) in its entirety, revoke the tolerances for piperonyl butoxide at 10 ppm and pyrethrins at 1 ppm in 40 CFR 180.367(a)(2)(ii), remove existing introductory text in 40 CFR 180.367(a)(2), (a)(2)(i), and (a)(2)(iii); decrease the tolerance in 40 CFR 180.367(a)(2)(ii) to 5 ppm and redesignate it as 40 CFR 180.367(a), and revise newly designated paragraph (a), as follows:

A tolerance of 5 parts per million is established for residues of the insecticide synergist N-octyl bicycloheptene dicarboximide, including its metabolites and degradates, in or on all food items in food handling establishments where food and food products are held, processed, prepared and/or served, provided that the food is removed or covered prior to such use, except for bagged food in warehouse storage which need not be removed or covered prior to applications of formulations containing N-octyl bicycloheptene dicarboximide. Compliance with the tolerance level specified in this paragraph is to be determined by measuring only N-octyl bicycloheptene dicarboximide, in or on the commodity.

Because there have been no uses of N-octyl bicycloheptenedicarboximide, MGK-264, in or on growing agricultural crops for more than 10 years, the tolerance exemption is no longer needed and therefore should be revoked. Consequently, EPA is proposing to revoke the tolerance exemption in 40 CFR 180.905(a)(2) for N-octyl bicyclo(2,2,1)-5-heptene-2,3-dicarboximide, when applied to growing crops. In addition, EPA is proposing to revise 40 CFR 180.905(a) as described herein under proposals for pyrethrum.

There are no Codex MRLs for N-octyl bicycloheptene dicarboximide.

16. Phosmet. On November 4, 2005, EPA published a notice in the Federal Register (70 FR 67167) (FRL-7744-7) that announced the Agency's receipt of requests from the registrants for amendments to delete uses in certain pesticide registrations, including the last phosmet uses on cotton. No comments were received by EPA and the Agency approved the use deletions on December 5, 2005, and permitted the registrants to sell and distribute existing stocks for a period of 18 months after approval; i.e., until June 5, 2007. The Agency believes that end users have had sufficient time to exhaust those existing stocks and for treated cotton to have cleared the channels of trade. Therefore, EPA is proposing to revoke the tolerances in 40 CFR 180.261(a) on cotton, refined oil and cotton, undelinted seed.

Also, in order to describe more clearly the measurement and scope or coverage of the tolerances, EPA is proposing to revise the section heading in 40 CFR 180.261 from N-(mercaptomethyl) phthalimide S-(O,O-dimethyl phosphorodithioate) and its oxygen analog to phosmet and revise the introductory text containing the tolerance expression in 40 CFR 180.261(a) to read as follows:

Tolerances are established for residues of the insecticide phosmet, N-(mercaptomethyl) phthalimide S-(O,O-dimethyl phosphorodithioate), including its metabolites and degradates, in or on the commodities in the table in this paragraph. Compliance with the tolerance levels specified in this paragraph is to be determined by measuring only the sum of phosmet, N-(mercaptomethyl) phthalimide S-(O,O-dimethyl phosphorodithioate), and its oxygen analog, N-(mercaptomethyl) phthalimide S-(O,O-dimethyl phosphorothioate, calculated as the stoichiometric equivalent of phosmet, in or on the commodity.

In addition, EPA is proposing to revise the introductory text containing the tolerance expression for regional tolerances in 40 CFR 180.261(c) to read as follows:

Tolerances with regional registration are established for residues of the insecticide phosmet, N-(mercaptomethyl) phthalimide S-(O,O-dimethyl phosphorodithioate), including its metabolites and degradates, in or on the commodities in the table in this paragraph. Compliance with the tolerance levels specified in this paragraph is to be determined by measuring only the sum of phosmet, N-(mercaptomethyl) phthalimide S-(O,O-dimethyl phosphorodithioate), and its oxygen analog, N-(mercaptomethyl) phthalimide S-(O,O-dimethyl phosphorothioate, calculated as the stoichiometric equivalent of phosmet, in or on the commodity.

There are Codex MRLs on certain commodities for phosmet, including an MRL on cottonseed.

17. Picloram. As a post-RED action, EPA made certain tolerance determinations for picloram on November 19, 2009 in a document made available in the public docket of this proposed rule. Because there is no need for a different tolerance expression for the existing tolerances for picloram residues in processed grain commodities in 40 CFR 180.292(a)(2), EPA determined that paragraph (a)(2) should be removed and the tolerances there should be moved into the table in § 180.292(a)(1), which therefore should be redesignated as paragraph (a).

Also, in order to describe more clearly the measurement and scope or coverage of the tolerances, EPA is proposing to revise the introductory text containing the tolerance expression in newly designated 40 CFR 180.292(a) to read as follows:

Tolerances are established for residues of the herbicide picloram, 4-amino-3,5,6-trichloropicolinic acid, including its metabolites and degradates, in or on the commodities in the table in this paragraph from its application in the acid form or in the form of its salts. Compliance with the tolerance levels specified in this paragraph is to be determined by measuring only picloram, 4-amino-3,5,6-trichloropicolinic acid, in or on the commodity.

Based on available field trial data that showed picloram residues of 195 ppm in or on grass forage at an application rate of 0.5 lb ae/A with a 0-day PHI, EPA determined that the existing tolerance should be increased from 80.0 to 400 ppm, which is an appropriate tolerance level for grass forage for the existing maximum approved rate of 1.0 lb ae/A. Also, based on available data that showed picloram residues as high as 170 ppm in or on grass hay at an application rate of 2.0 lb ae/A with a 14-day PHI and 213 ppm in or on grass hay at an application rate of 0.5 lb ae/A with a 0-day PHI, EPA determined that a tolerance should be established on grass hay at 225 ppm. Therefore, EPA is proposing to increase the tolerance in 40 CFR 180.292(a) on grass, forage to 400 ppm and establish a tolerance in 40 CFR 180.292(a) on grass, hay at 225 ppm. The Agency determined that the increased tolerance is safe; i.e., there is a reasonable certainty that no harm will result from aggregate exposure to the pesticide chemical residue.

Based on available cattle exaggerated feeding data at 1.39X the Maximum Theoretical Dietary Burden (MTDB) that showed picloram residues at 0.5 ppm in fat, 0.5 ppm in muscle, 18 ppm in kidney, 2.0 ppm in liver, and 0.29 ppm in milk, EPA calculated that the maximum expected residues in fat, muscle, meat byproducts, and milk at 1X MTDB to be 0.36 ppm, 0.36 ppm, 12.95 ppm, and 0.21 pm, respectively. Therefore, the Agency determined that the tolerances for the fat and meat of cattle, goats, horses, and sheep should be increased from 0.2 to 0.4 ppm, the tolerance for milk should be increased from 0.05 to 0.25 ppm; the separate tolerances for the kidney of cattle, goats, horses, and sheep, and liver of cattle, goats, horses, and sheep should be revoked because they will be covered by redefined meat byproduct tolerances for cattle, goats, horses, and sheep, and the redefined meat byproduct tolerances should be increased to 15 ppm. Consequently, EPA is proposing to increase the tolerances in 40 CFR 180.292(a) on cattle, fat; cattle, meat; goat, fat; goat, meat; horse, fat; horse, meat; sheep, fat; and sheep, meat to 0.4 ppm, and milk to 0.25 ppm. Also, EPA is proposing to revoke the individual tolerances in 40 CFR 180.292(a) on cattle, kidney; cattle, liver; goat, kidney; goat, liver; horse, kidney, horse, liver; sheep kidney; and sheep, liver. In addition, EPA is proposing to revise the tolerances in 40 CFR 180.292(a) on “cattle, meat byproducts, except kidney and liver” to “cattle, meat byproducts;” “goat, meat byproducts, except kidney and liver” to “goat, meat byproducts;” “horse, meat byproducts, except kidney and liver” to “horse, meat byproducts;” and “sheep, meat byproducts, except kidney and liver” to “sheep, meat byproducts;” and increase them to 15 ppm. The Agency determined that the increased tolerances are safe; i.e., there is a reasonable certainty that no harm will result from aggregate exposure to the pesticide chemical residue.

Although grass commodities are not significant feed items for swine, wheat milled byproduct feed items which have picloram tolerances show that the MTDB for swine is low (1.5 ppm). The lowest levels of picloram fed to cattle and sheep (200 and 30 ppm) were well above the anticipated exposure for hogs and the 30 ppm dose showed picloram residues in kidney, liver, fat, and muscle of sheep were 0.38 ppm, <0.05 ppm, <0.05 ppm, and <0.05 ppm, respectively. Based on the available data, the Agency determined that the tolerances for hog, fat; hog, meat; and hog, meat byproducts should be decreased from 0.2 to 0.05 ppm, and hog, kidney and hog, liver should be decreased to 0.05 ppm. However, these separate kidney and liver tolerances are no longer needed since they will be covered by redefined meat byproduct tolerances. Therefore, EPA is proposing to decrease the tolerances in 40 CFR 180.292(a) on hog, fat and hog, meat, each to 0.05 ppm. Also EPA is proposing to revoke the individual tolerances in 40 CFR 180.292(a) on hog, kidney and hog, liver. In addition, EPA is proposing to revise the tolerance in 40 CFR 180.292(a) on “hog, meat byproducts, except kidney and liver” to “hog, meat byproducts” and decrease it to 0.05 ppm.

There are no Codex MRLs for picloram.

18. Propazine. Because there have been no active registrations for propazine use on sweet sorghum for more than 4 years, EPA is proposing to revoke the tolerance in 40 CFR 180.243 on sorghum, sweet.

Tolerances established in 40 CFR 180.243 are currently defined for residues of propazine (the parent compound) only. Based on the results of sorghum metabolism data, the Agency determined that two chlorinated degradates should be included in the residue definition. Therefore, in order to describe more clearly the measurement and scope or coverage of the tolerances, EPA is proposing to revise the introductory text containing the tolerance expression in 40 CFR 180.243, and designate it as paragraph (a), to read as follows:

Tolerances are established for residues of the herbicide propazine, 2-chloro-4,6-bis(isopropylamino)-s-triazine, including its metabolites and degradates, in or on the commodities in the table in this paragraph. Compliance with the tolerance levels specified in this paragraph is to be determined by measuring only the sum of propazine, 2-chloro-4,6-bis(isopropylamino)-s-triazine, and its two chlorinated degradates, 2-amino-4-chloro-6-isopropylamino-s-triazine and 2,4-diamino-6-chloro-s-triazine, calculated as the stoichiometric equivalent of propazine, in or on the commodity.

Also, in newly designated 40 CFR 180.243(a), EPA is removing the “(N)” designation from all entries to conform to current Agency administrative practice, where the “N” designation means negligible residues, and revising commodity terminology to conform to current Agency practice as follows: “sorghum, forage” to “sorghum, grain, forage.”

In accordance with current Agency practice, EPA is proposing to revise 40 CFR 180.243 by adding separate paragraphs (b), (c), and (d), and reserving those sections for tolerances with section 18 emergency exemptions, regional registrations, and indirect or inadvertent residues, respectively.

There are no Codex MRLs for propazine.

19. Pyrethrum. Currently, there are tolerance exemptions in 40 CFR 180.905(a)(6) for pyrethrum and pyrethrins when applied to growing crops in accordance with good agricultural practice. Because there have been no active registrations in the United States for pyrethrum since 1991, there is no longer a need for a tolerance exemption on pyrethrum and the tolerance exemption for it should be revoked. Consequently, EPA is proposing to revoke the tolerance exemption for pyrethrum in 40 CFR 180.905(a)(6). While the tolerance exemption for pyrethrins will be maintained, EPA is proposing to revise 40 CFR 180.905(a) in accordance with the proposed revocation of the tolerance exemption for N-octylbicyclo(2,2,1)-5-heptene-2,3-dicarboximide in 40 CFR 180.905(a)(2) as described elsewhere in this rule and transfer the entry for petroleum oils from 40 CFR 180.905(a)(3) to 40 CFR 180.905(a)(1), which had been reserved, transfer the entry for piperonyl butoxide from 40 CFR 180.905(a)(4) to 40 CFR 180.905(a)(2), transfer the entry for pyrethrins from 40 CFR 180.905(a)(6) to 40 CFR 180.905(a)(3), transfer the entry for rotenone or derris or cube roots from 40 CFR 180.905(a)(7) to 40 CFR 180.905(a)(4), transfer the entry for Sabadilla from 40 CFR 180.905(a)(8) to 40 CFR 180.905(a)(5), which had been reserved, and remove paragraphs (a)(6), (a)(7), and (a)(8).

There are no Codex MRLs for pyrethrum. However, there are Codex MRLs for pyrethrins concerning specific commodities.

20. Thiodicarb. Based on available field trial at 5X the maximum label rate and processing data that showed combined thiodicarb residues of concern as high as 0.215 ppm on cottonseed and 0.228 in cottonseed hulls, EPA calculated that the residues in cottonseed hulls are unlikely to exceed both the current tolerance of 0.4 ppm on the raw agricultural commodity (cotton, undelinted seed) and a tolerance of 0.2 ppm recommended for cottonseed in the 1998 RED for thiodicarb. Because thiodicarb residues of concern concentrated by only 1.1X in cottonseed hulls (based on average residues of 0.200 ppm in cottonseed and 0.223 ppm in cottonseed hulls), the Agency determined that residues in cottonseed hulls will be covered by the tolerance on the raw agricultural commodity and that the existing tolerance of 0.8 ppm on cottonseed hulls is no longer needed and should be revoked. Therefore, EPA is proposing to revoke the tolerance in 40 CFR 180.407(a) on cotton, hulls.

There are no Codex MRLs for thiodicarb.

21. Thiophanate-methyl. Currently, tolerances for the fungicide thiophanate-methyl are expressed in 40 CFR 180.371(a) and 180.371(c) for the combined residues of thiophanate-methyl, dimethyl ((1,2-phenylene) bis (iminocarbonothioyl)) bis(carbamate), and its metabolite methyl 2-benzimidazoyl carbamate (MBC), calculated as thiophanate-methyl. In order to describe more clearly the measurement and scope or coverage of the tolerances, EPA is proposing to revise the introductory text containing the tolerance expression in 40 CFR 180.371(a) to read as follows:

Tolerances are established for residues of thiophanate-methyl, dimethyl ((1,2-phenylene) bis (iminocarbonothioyl)) bis(carbamate), including its metabolites and degradates, in or on the commodities in the table in this paragraph. Compliance with the tolerance levels specified in this paragraph is to be determined by measuring only the sum of thiophanate-methyl, dimethyl ((1,2-phenylene) bis (iminocarbonothioyl)) bis(carbamate), and its metabolite, methyl 2-benzimidazoyl carbamate (MBC), calculated as the stoichiometric equivalent of thiophanate-methyl, in or on the commodity.

In addition, EPA is proposing to revise the introductory text containing the tolerance expression in 40 CFR 180.371(c) to read as follows:

A tolerance with a regional registration is established for residues of thiophanate-methyl, dimethyl ((1,2-phenylene) bis (iminocarbonothioyl)) bis(carbamate), including its metabolites and degradates, in or on the commodity in the table in this paragraph. Compliance with the tolerance level specified in this paragraph is to be determined by measuring only the sum of thiophanate-methyl, dimethyl ((1,2-phenylene) bis (iminocarbonothioyl)) bis(carbamate), and its metabolite, methyl 2-benzimidazoyl carbamate (MBC), calculated as the stoichiometric equivalent of thiophanate-methyl, in or on the commodity.

Because tolerances for FIFRA section 18 emergency exemptions in 40 CFR 180.371(b) for cotton, gin byproducts and cotton, undelinted seed expired on December 31, 2008, blueberry expired on June 30, 2009, and citrus, mushroom, and vegetable, fruiting, group 8 expired on December 31, 2009, they should be removed. Therefore, EPA is proposing to remove the expired tolerances in 40 CFR 180.371(b) for blueberry; citrus; cotton, gin byproducts; cotton, undelinted seed; mushroom; and vegetable, fruiting, group 8. Consequently, because no tolerances will remain there, EPA is also proposing to reserve 40 CFR 180.371(b).

Because sugar beet tops are no longer considered by the Agency to be a significant feed item that will contribute to the overall dietary burden of livestock, the tolerance is no longer needed and should be revoked. Therefore, EPA is proposing to revoke the tolerance in 40 CFR 180.371(a) on beet, sugar, tops.

Because there have been no active registrations in the United States for thiophanate-methyl use on sugarcane for more than 9 years, the tolerance should be revoked. Therefore, EPA is proposing to revoke the tolerance in 40 CFR 180.371(a) on sugarcane, cane.

Based on available cattle feeding data at exaggerated pesticide dose levels and MTDB for cattle, the Agency determined that there is no reasonable expectation of detecting finite residues of thiophanate-methyl residues of concern in the milk and fat, meat, and meat byproducts of cattle, goats, horses and sheep. Therefore, these tolerances are no longer needed under 40 CFR 180.6(a)(3). Consequently, EPA is proposing to revoke the tolerances in 40 CFR 180.371(a) on cattle, fat; cattle, meat; cattle, meat byproducts; goat, fat; goat, meat; goat, meat byproducts; horse, fat; horse, meat; horse, meat byproducts; sheep, fat; sheep, meat; and sheep, meat byproducts; and milk.

Based on available data provided to support reregistration that showed thiophanate-methyl residues of concern, the Agency determined that tolerances should be established on aspirated grain fractions (based on soybean) at 12 ppm and wheat forage at 1.1 ppm. Therefore, EPA is proposing to establish tolerances in 40 CFR 180.371(a) on grain, aspirated fractions at 12 ppm and wheat, forage at 1.1 ppm.

In the Federal Register of July 11, 2007 (72 FR 37646)(FRL-8131-6), EPA issued a final rule which revoked, modified, and established certain tolerances for specific pesticide active ingredients, including thiophanate-methyl, for which the Agency revised the commodity terminology in 40 CFR 180.371(a) for bean (snap and dry) into bean, dry, seed and bean, snap, succulent, and inadvertently decreased the tolerance for bean, snap, succulent from 2.0 to 0.2 ppm. However, in the Federal Register of September 20, 2006 (71 FR 54953)(FRL-8078-2), EPA issued a proposed rule which proposed to revise the tolerance in 40 CFR 180.371(a) for bean (snap and dry) into bean, dry, seed and bean, snap, succulent, and stated that the tolerance for bean, snap, succulent would be maintained at 2.0 ppm. Consequently, the Agency is proposing to reinstate the correct tolerance level for the tolerance in 40 CFR 180.371(a) on bean, snap, succulent to 2.0 ppm.

There are no Codex MRLs for thiophanate-methyl.

B. What is the Agency's Authority for Taking this Action?

A “tolerance” represents the maximum level for residues of pesticide chemicals legally allowed in or on raw agricultural commodities and processed foods. Section 408 of FFDCA, 21 U.S.C. 346a, as amended by FQPA of 1996, Public Law 104-170, authorizes the establishment of tolerances, exemptions from tolerance requirements, modifications in tolerances, and revocation of tolerances for residues of pesticide chemicals in or on raw agricultural commodities and processed foods. Without a tolerance or exemption, food containing pesticide residues is considered to be unsafe and therefore “adulterated” under section 402(a) of FFDCA, 21 U.S.C. 342(a). Such food may not be distributed in interstate commerce (21 U.S.C. 331(a)). For a food-use pesticide to be sold and distributed, the pesticide must not only have appropriate tolerances under the FFDCA, but also must be registered under FIFRA (7 U.S.C. 136 et seq.). Food-use pesticides not registered in the United States must have tolerances in order for commodities treated with those pesticides to be imported into the United States.

EPA is proposing these tolerance/tolerance exemption actions to implement the tolerance recommendations made during the reregistration and tolerance reassessment processes (including follow-up on canceled or additional uses of pesticides). As part of these processes, EPA is required to determine whether each of the amended tolerances/tolerance exemptions meets the safety standard of FQPA. The safety finding determination is discussed in detail in each post-FQPA RED and TRED for the active ingredient. REDs and TREDs recommend the implementation of certain tolerance/tolerance exemption actions, including modifications to reflect current use patterns, to meet safety findings, and change commodity names and groupings in accordance with new EPA policy. Printed and electronic copies of the REDs and TREDs are available as provided in Unit II.A.

EPA has issued REDs for acephate, cacodylic acid, ethoprop, hexazinone, methamidophos, N-octyl bicycloheptene dicarboximide, phosmet, picloram, pyrethrum (see pyrethrins RED), and thiophanate-methyl, and TREDs for hexazinone and propazine, as noted in Unit II.A., and made a safety finding which reassessed picloram tolerances according to the FFDCA standard, maintaining them when new picloram tolerances were established on January 5, 1999 (64 FR 418) (FRL-6039-4), and since then made certain tolerance determinations for picloram on November 19, 2009 in a document made available in the public docket of this proposed rule, as noted in Unit II.A. REDs and TREDs contain the Agency's evaluation of the database for these pesticides, including requirements for additional data on the active ingredients to confirm the potential human health and environmental risk assessments associated with current product uses, and in REDs state conditions under which these uses and products will be eligible for reregistration. The REDs and TREDs recommended the establishment, modification, and/or revocation of specific tolerances/tolerance exemptions. RED and TRED recommendations such as establishing or modifying tolerances, and in some cases revoking tolerances, are the result of assessment under the FFDCA standard of “reasonable certainty of no harm.” However, tolerance revocations recommended in REDs and TREDs that are proposed in this document do not need such assessment when the tolerances are no longer necessary.

EPA's general practice is to propose revocation of tolerances/tolerance exemptions for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of FFDCA, a tolerance/tolerance exemption may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances/tolerance exemptions for residues on crops uses for which FIFRA registrations no longer exist, unless someone expresses a need for such tolerances/tolerance exemptions. Through this proposed rule, the Agency is inviting individuals who need these import tolerances to identify themselves and the tolerances that are needed to cover imported commodities.

Parties interested in retention of the tolerances/tolerance exemptions should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance/tolerance exemption at issue.

When EPA establishes tolerances for pesticide residues in or on raw agricultural commodities, consideration must be given to the possible residues of those chemicals in meat, milk, poultry, and/or eggs produced by animals that are fed agricultural products (for example, grain or hay) containing pesticides residues (40 CFR 180.6). When considering this possibility, EPA can conclude that:

1. Finite residues will exist in meat, milk, poultry, and/or eggs.

2. There is a reasonable expectation that finite residues will exist.

3. There is a reasonable expectation that finite residues will not exist. If there is no reasonable expectation of finite pesticide residues in or on meat, milk, poultry, or eggs, tolerances do not need to be established for these commodities (40 CFR 180.6(b) and (c)).

EPA has evaluated certain specific meat, milk, poultry, and egg tolerances proposed for revocation in this document and has concluded that there is no reasonable expectation of finite pesticide residues of concern in or on those commodities.

C. When Do These Actions Become Effective?

With the exception of certain tolerances for cacodylic acid, dicloran, disulfoton, ethoprop, malathion, methamidophos, and methyl bromide for which EPA is proposing specific expiration/revocation dates, the Agency is proposing that these revocations, modifications, establishment of tolerances, and revisions of tolerance nomenclature become effective on the date of publication of the final rule in the Federal Register. With the exception of the proposed revocation of specific tolerances for cacodylic acid, dicloran, disulfoton, ethoprop, malathion, methamidophos, and methyl bromide, the Agency believes that existing stocks of pesticide products labeled for the uses associated with the tolerances proposed for revocation have been completely exhausted and that treated commodities have cleared the channels of trade. EPA is proposing expiration/revocation dates of January 1, 2012 for the cacodylic acid tolerance on cotton, undelinted seed; November 2, 2011 for the dicloran tolerance on carrot, roots, postharvest; December 31, 2012 for the disulfoton tolerances on bean, lima; bean, snap, succulent; broccoli; Brussels sprouts; cabbage; cauliflower; cotton, undelinted seed; lettuce, head; lettuce, leaf; and asparagus; June 30, 2013 for the disulfoton tolerance on coffee, green bean; January 9, 2012 for the ethoprop tolerance on pineapple; July 15, 2011 for the malathion tolerance on cranberry; December 31, 2012 for the methamidophos tolerances on broccoli; cabbage; cotton, undelinted seed; tomato; and potato; October 19, 2010 for the methyl bromide tolerance on timothy, hay, postharvest; and October 31, 2011 for the methyl bromide tolerances on alfalfa, hay, postharvest and cotton, undelinted seed, postharvest. The Agency believes that these revocation dates allow users to exhaust stocks and allows sufficient time for passage of treated commodities through the channels of trade. However, if EPA is presented with information that existing stocks would still be available and that information is verified, the Agency will consider extending the expiration date of the tolerance. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to FFDCA section 408(l)(5), as established by FQPA. Under this unit, any residues of these pesticides in or on such food shall not render the food adulterated so long as it is shown to the satisfaction of the Food and Drug Administration that:

1. The residue is present as the result of an application or use of the pesticide at a time and in a manner that was lawful under FIFRA, and

2. The residue does not exceed the level that was authorized at the time of the application or use to be present on the food under a tolerance or exemption from tolerance. Evidence to show that food was lawfully treated may include records that verify the dates when the pesticide was applied to such food.

III. International Residue Limits

In making its tolerance decisions, EPA seeks to harmonize U.S. tolerances with international standards whenever possible, consistent with U.S. food safety standards and agricultural practices. EPA considers the international MRLs established by the Codex Alimentarius Commission (Codex), as required by FFDCA section 408(b)(4). The Codex Alimentarius is a joint U.N. Food and Agriculture Organization/World Health Organization food standards program, and it is recognized as an international food safety standards-setting organization in trade agreements to which the United States is a party. EPA may establish a tolerance that is different from a Codex MRL; however, FFDCA section 408(b)(4) requires that EPA explain the reasons for departing from the Codex level.

The Codex has not established a MRL for cacodylic acid, dicamba, EPTC, hexazinone, N-octyl bicycloheptene dicarboximide, picloram, propazine, pyrethrum, thiodicarb, and thiophanate-methyl, or MRL in or on corn, pop, grain; corn, pop, stover; or pineapple for ethoprop; or MRL in or on citrus, dried pulp; citrus, oil; fruit, citrus, group 10; or garlic for fenamiphos; or MRL for citrus, dried pulp; cranberry; peanut, hay; peanut, postharvest; raisins; safflower, seed; safflower, refined oil; sunflower, seed, postharvest; fat, meat, and meat byproducts of cattle, goats, hogs, horses, poultry, and sheep; egg; milk, fat; or nonmedicated cattle feed concentrate blocks for malathion; or MRL in or on alfalfa, hay, postharvest; cotton, undelinted seed; mango, postharvest; papaya, postharvest; or timothy, hay, postharvest for bromide ion or methyl bromide; or MRL in or on leek; strawberry; or watercress for methomyl; or MRL in or on broccoli; Brussels sprouts; cabbage; lettuce; or tomato for methamidophos.

The Codex has established MRLs for dicloran in or on commodities including carrot, postharvest at 15 mg/kg. This MRL is different than the current tolerance established for dicloran at 10 ppm in the United States, which EPA is proposing herein to revoke. The tolerance was reassessed in the RED at 10 ppm and was harmonized with Codex at that time.

The Codex has established MRLs for diquat in or on commodities including sorghum at 2 mg/kg and soya bean (dry) at 0.2 mg/kg. These MRLs are the same as the current tolerances for diquat in or on sorghum, grain, grain and soybean, seed in the United States, which EPA is proposing herein to revoke.

The Codex has established MRLs for disulfoton in or on commodities including asparagus at 0.02 mg/kg; cotton seed at 0.1 mg/kg. These MRLs are different than the current tolerances established for disulfoton in or on asparagus at 0.1 ppm and cotton, undelinted seed at 0.75 ppm in the United States, both of which EPA is proposing herein to revoke. The tolerances were reassessed in the RED and were not harmonized with Codex levels because of differences in good agricultural practices. The Codex MRL for disulfoton in or on coffee beans is the same as the current tolerance for disulfoton in or on coffee, green bean, which EPA is proposing herein to revoke.

The Codex has established MRLs for methamidophos in or on commodities including cauliflower at 0.5 mg/kg; cotton seed at 0.2 mg/kg; chili peppers at 2 mg/kg; sweet peppers at 1 mg/kg; and potato at 0.05 mg/kg. These MRLs are different than the current tolerances established for methamidophos from methamidophos application in or on cauliflower at 1.0 ppm; cotton, undelinted seed at 0.1 ppm; pepper at 1.0 ppm; and potato at 0.1 ppm in the United States, all of which EPA is proposing herein to revoke. The tolerances were reassessed in the RED and were not harmonized with the Codex levels because of differences in good agricultural practices. While methamidophos is a metabolite of acephate and EPA is proposing herein the re-instatement of certain methamidophos tolerances as a result of the application of acephate, Codex has established MRLs for acephate but for compliance purposes has defined them as only acephate residues.

The Codex has established MRLs for phosmet in or on commodities including cotton seed at 0.05 mg/kg. This MRL is different than the current tolerance established for phosmet in or on cotton, undelinted seed at 0.1 ppm in the United States, which EPA is proposing herein to revoke. The tolerance was reassessed in the RED and was not harmonized with the Codex level because of differences in good agricultural practices and tolerance expression where total residues for U.S. tolerances included phosmet's oxygen analog.

IV. Statutory and Executive Order Reviews

In this proposed rule, EPA is proposing to establish tolerances under FFDCA section 408(e), and also modify and revoke specific tolerances/tolerance exemptions established under FFDCA section 408. The Office of Management and Budget (OMB) has exempted these types of actions (e.g., establishment and modification of a tolerance and tolerance revocation for which extraordinary circumstances do not exist) from review under Executive Order 12866, entitled Regulatory Planning and Review (58 FR 51735, October 4, 1993). Because this proposed rule has been exempted from review under Executive Order 12866 due to its lack of significance, this proposed rule is not subject to Executive Order 13211, entitled Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020) (FRL-5753-1), respectively, and were provided to the Chief Counsel for Advocacy of the Small Business Administration. Taking into account this analysis, and available information concerning the pesticides listed in this proposed rule, the Agency hereby certifies that this proposed rule will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticides named in this proposed rule, the Agency knows of no extraordinary circumstances that exist as to the present proposal that would change the EPA's previous analysis. Any comments about the Agency's determination should be submitted to the EPA along with comments on the proposal, and will be addressed prior to issuing a final rule. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers, and food retailers, not States. This action does not alter the relationships or distribution of power and responsibilities established by Congress in the preemption provisions of section 408(n)(4) of FFDCA. For these same reasons, the Agency has determined that this proposed rule does not have any “tribal implications” as described in Executive Order 13175, entitled Consultation and Coordination with Indian Tribal Governments (65 FR 67249, November 9, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: May 5, 2010.
Steven Bradbury,
Acting Director, Office of Pesticide Programs.

Therefore, it is proposed that 40 CFR chapter I be amended as follows:

PART 180—[AMENDED]

1. The authority citation for part 180 continues to read as follows:

Authority: 21 U.S.C. 321(q), 346a and 371.

Q P='06'>

2. Section 180.108 is amended as follows:

a. Revise the introductory text to paragraph (a)(1).

b. Revise footnote 1 to the table in paragraph (a)(1).

c. Revise paragraph (a)(2).

d. Add paragraph (a)(3).

e. Revise paragraph (c).

§ 180.108 Acephate; tolerances for residues.

(a) * * * (1) Tolerances are established for residues of acephate, O,S-dimethyl acetyl phosphoramidothioate, including its metabolites and degradates other than methamidophos, in or on the commodities in the table in this paragraph. Compliance with the tolerance levels specified in this paragraph is to be determined by measuring only acephate, O,S-dimethyl acetyl phosphoramidothioate, in or on the commodity.

Commodity¹ | Parts per million
* * * * *
¹ Where there is a direct use of methamidophos on the commodity, residues of methamidophos resulting from methamidophos application are regulated under 40 CFR 180.315.

(2) A tolerance of 0.02 ppm is established for residues of acephate, O,S-dimethyl acetyl phosphoramidothioate, including its metabolites and degradates other than methamidophos, in or on all food items (other than those already covered by a higher tolerance as a result of use on growing crops) in food handling establishments where food and food products are held, processed, prepared and served, including food service, manufacturing and processing establishments, such as restaurants, cafeterias, supermarkets, bakeries, breweries, dairies, meat slaughtering and packing plants, and canneries, where application of acephate shall be limited solely to spot and/or crack and crevice treatment (a coarse, low-pressure spray shall be used to avoid atomization or splashing of the spray for spot treatments; equipment capable of delivering a pin-stream of insecticide shall be used for crack and crevice treatments). Spray concentration shall be limited to a maximum of 1.0 percent active ingredient. Contamination of food or food-contact surfaces shall be avoided. Compliance with the tolerance levels specified in this paragraph is to be determined by measuring only acephate, O,S-dimethyl acetyl phosphoramidothioate, in or on the commodity.

(3) Tolerances are established for residues of methamidophos, O,S-dimethyl phosphoramidothioate, including its metabolites and degradates, in or on the commodities in the table in this paragraph as a result of the application of acephate. Compliance with the tolerance levels specified in this paragraph is to be determined by measuring only methamidophos, O,S-dimethyl phosphoramidothioate, in or on the commodity.

Commodity | Parts per million
Bean, dry, seed | 1
Bean, succulent | 1
Brussels sprouts | 0.5
Cauliflower | 0.5
Celery | 1
Cranberry | 0.1
Lettuce, head | 1
Pepper | 1
Peppermint, tops | 1
Spearmint, tops | 1

(c) Tolerances with regional registrations. A tolerance with a regional registration is established for residues of acephate, O,S-dimethyl acetyl phosphoramidothioate, including its metabolites and degradates other than methamidophos, in or on the commodity in the table in this paragraph. Compliance with the tolerance level specified in this paragraph is to be determined by measuring only acephate, O,S-dimethyl acetyl phosphoramidothioate, in or on the commodity.

Commodity¹ | Parts per million
Nut, macadamia | 0.05
¹ Where there is a direct use of methamidophos on the commodity, residues of methamidophos resulting from methamidophos application are regulated under 40 CFR 180.315.

3. Amend § 180.111 as follows:

a. Revise the table in paragraph (a)(1).

b. Remove paragraphs (a)(3), (a)(4), (a)(5), (a)(6), and (a)(7).

§ 180.111 Malathion; tolerances for residues.

(a) * * * (1) * * *

Commodity | Parts per million | Expiration/Revocation Date
Alfalfa, forage | 135 | None
Alfalfa, hay | 135 | None
Almond, hulls | 50 | None
Almond, postharvest | 8 | None
Apple | 8 | None
Apricot | 8 | None
Asparagus | 8 | None
Avocado | 8 | None
Barley, grain, postharvest | 8 | None
Bean, dry, seed | 8 | None
Bean, succulent | 8 | None
Beet, garden, roots | 8 | None
Beet, garden, tops | 8 | None
Beet, sugar, roots | 1 | None
Beet, sugar, tops | 8 | None
Blackberry | 8 | None
Blueberry | 8 | None
Boysenberry | 8 | None
Carrot, roots | 8 | None
Chayote, fruit | 8 | None
Chayote, roots | 8 | None
Cherry | 8 | None
Chestnut | 1 | None
Clover, forage | 135 | None
Clover, hay | 135 | None
Corn, field, forage | 8 | None
Corn, field, grain, postharvest | 8 | None
Corn, pop, grain, postharvest | 8 | None
Corn, sweet, forage | 8 | None
Corn, sweet, kernel plus cob with husks removed | 2 | None
Cowpea, forage | 135 | None
Cowpea, hay | 135 | None
Cranberry | 8 | 7/15/11
Cucumber | 8 | None
Currant | 8 | None
Date, dried fruit | 8 | None
Dewberry | 8 | None
Eggplant | 8 | None
Fig | 8 | None
Flax, seed | 0.1 | None
Garlic, bulb | 8 | None
Gooseberry | 8 | None
Grape | 8 | None
Grapefruit | 8 | None
Guava | 8 | None
Hazelnut | 1 | None
Hop, dried cones | 1 | None
Horseradish | 8 | None
Kumquat | 8 | None
Leek | 8 | None
Lemon | 8 | None
Lentil, seed | 8 | None
Lespedeza, hay | 135 | None
Lime | 8 | None
Loganberry | 8 | None
Lupin, seed | 8 | None
Mango | 8 | None
Melon | 8 | None
Mushroom | 8 | None
Nectarine | 8 | None
Nut, macadamia | 1 | None
Oat, grain, postharvest | 8 | None
Okra | 8 | None
Onion, bulb | 8 | None
Onion, green | 8 | None
Orange | 8 | None
Papaya | 1 | None
Parsnip | 8 | None
Passionfruit | 8 | None
Pea | 8 | None
Pea, field, hay | 8 | None
Pea, field, vines | 8 | None
Peach | 8 | None
Pear | 8 | None
Pecan | 8 | None
Pepper | 8 | None
Peppermint, tops | 8 | None
Pineapple | 8 | None
Plum | 8 | None
Plum, prune | 8 | None
Potato | 8 | None
Pumpkin | 8 | None
Quince | 8 | None
Radish | 8 | None
Raspberry | 8 | None
Rice, grain, postharvest | 8 | None
Rice, wild | 8 | None
Rutabaga | 8 | None
Rye, grain, postharvest | 8 | None
Salsify, roots | 8 | None
Salsify, tops | 8 | None
Shallot, bulb | 8 | None
Sorghum, grain, forage | 8 | None
Sorghum, grain, grain, postharvest | 8 | None
Soybean, forage | 135 | None
Soybean, hay | 135 | None
Soybean, seed | 8 | None
Soybean, vegetable, succulent | 8 | None
Spearmint, tops | 8 | None
Squash, summer | 8 | None
Squash, winter | 8 | None
Strawberry | 8 | None
Sweet potato, roots | 1 | None
Tangerine | 8 | None
Tomato | 8 | None
Trefoil, forage | 135 | None
Trefoil, hay | 135 | None
Turnip, greens | 8 | None
Turnip, roots | 8 | None
Vegetable, brassica, leafy, group 5 | 8 | None
Vegetable, leafy, except brassica, group 4 | 8 | None
Vetch, hay | 135 | None
Walnut | 8 | None
Wheat, grain, postharvest | 8 | None

4. Revise § 180.117 to read as follows:

§ 180.117 S-Ethyl dipropylthiocarbamate; tolerances for residues.

(a) General. Tolerances are established for residues of the herbicide S-ethyl dipropylthiocarbamate, including its metabolites and degradates, in or on the commodities in the table in this paragraph. Compliance with the tolerance levels specified in this paragraph is to be determined by measuring only the sum of S-ethyl dipropylthiocarbamate, S-ethyl (2-hydroxypropyl)propylcarbamothioate, S-(2-hydroxyethyl)dipropylcarbamothioate, and S-ethyl (3-hydroxypropyl)propylcarbamothioate, calculated as the stoichiometric equivalent of S-ethyl dipropylthiocarbamate, in or on the commodity.

Commodity | Parts per million
Alfalfa, forage | 0.2
Alfalfa, hay | 0.6
Almond | 0.08
Almond, hulls | 0.08
Bean, dry, seed | 0.08
Bean, succulent | 0.08
Beet, garden, roots | 0.1
Beet, garden, tops | 0.5
Beet, sugar, molasses | 0.4
Beet, sugar, roots | 0.1
Beet, sugar, tops | 0.5
Clover, forage | 0.1
Clover, hay | 0.1
Corn, field, forage | 0.08
Corn, field, grain | 0.08
Corn, field, stover | 0.08
Corn, pop, grain | 0.08
Corn, pop, stover | 0.08
Corn, sweet, forage | 0.08
Corn, sweet, kernel plus cob with husks removed | 0.08
Corn, sweet, stover | 0.08
Cotton, gin byproducts | 0.20
Cotton, undelinted seed | 0.08
Fruit, citrus, group 10 | 0.1
Lespedeza, forage | 0.1
Lespedeza, hay | 0.1
Pea, succulent | 0.08
Potato | 0.1
Safflower, seed | 0.08
Sunflower, seed | 0.08
Sweet potato, roots | 0.1
Tomato | 0.08
Trefoil, forage | 0.1
Trefoil, hay | 0.1
Walnut | 0.08

(b) Section 18 emergency exemptions. [Reserved]

(c) Tolerances with regional registrations. [Reserved]

(d) Indirect or inadvertent residues. [Reserved]

5. In § 180.123 revise the table in paragraph (a)(1) to read as follows:

§ 180.123 Inorganic bromide residues resulting from fumigation with methyl bromide; tolerances for residues.

(a) * * * (1) * * *

Commodity | Parts per million | Expiration/Revocation Date
Alfalfa, hay, postharvest | 50.0 | 10/31/11
Almond, postharvest | 200.0 | None
Apple, postharvest | 5.0 | None
Apricot, postharvest | 20.0 | None
Artichoke, jerusalem, postharvest | 30.0 | None
Asparagus, postharvest | 100.0 | None
Avocado, postharvest | 75.0 | None
Barley, grain, postharvest | 50.0 | None
Bean, lima, postharvest | 50.0 | None
Bean, postharvest | 50.0 | None
Bean, snap, succulent, postharvest | 50.0 | None
Bean, succulent, postharvest | 50.0 | None
Beet, garden, roots, postharvest | 30.0 | None
Beet, sugar, roots, postharvest | 30.0 | None
Blueberry, postharvest | 20.0 | None
Butternut, postharvest | 200.0 | None
Cabbage, postharvest | 50.0 | None
Cacao bean, roasted bean, postharvest | 50.0 | None
Cantaloupe, postharvest | 20.0 | None
Carrot, roots, postharvest | 30.0 | None
Cashew, postharvest | 200.0 | None
Cherry, sweet, postharvest | 20.0 | None
Cherry, tart, postharvest | 20 | None
Chestnut, postharvest | 200.0 | None
Cippolini, bulb, postharvest | 50.0 | None
Citron, citrus, postharvest | 30.0 | None
Coconut, copra, postharvest | 100.0 | None
Coffee, bean, green, postharvest | 75.0 | None
Corn, field, grain, postharvest | 50.0 | None
Corn, pop, postharvest | 240.0 | None
Corn, sweet, kernel plus cob with husks removed, postharvest | 50.0 | None
Cotton, undelinted seed, postharvest | 200.0 | 10/31/11
Cucumber, postharvest | 30.0 | None
Cumin, seed, postharvest | 100.0 | None
Eggplant, postharvest | 20.0 | None
Garlic, postharvest | 50.0 | None
Ginger, postharvest | 100.0 | None
Grape, postharvest | 20.0 | None
Grapefruit, postharvest | 30.0 | None
Hazelnut, postharvest | 200.0 | None
Horseradish, postharvest | 30.0 | None
Kumquat, postharvest | 30.0 | None
Lemon, postharvest | 30.0 | None
Lime, postharvest | 30.0 | None
Melon, honeydew, postharvest | 20.0 | None
Muskmelon, postharvest | 20.0 | None
Nectarine, postharvest | 20.0 | None
Nut, brazil, postharvest | 200.0 | None
Nut, hickory, postharvest | 200.0 | None
Nut, macadamia, postharvest | 200.0 | None
Oat, postharvest | 50.0 | None
Okra, postharvest | 30.0 | None
Onion, bulb, postharvest | 20.0 | None
Onion, green, postharvest | 20.0 | None
Orange, postharvest | 30.0 | None
Parsnip, roots, postharvest | 30.0 | None
Peach, postharvest | 20.0 | None
Peanut, postharvest | 200.0 | None
Pear, postharvest | 5.0 | None
Pea, blackeyed, postharvest | 50.0 | None
Pea, postharvest | 50.0 | None
Pecan, postharvest | 200.0 | None
Pepper, postharvest | 30.0 | None
Pimento, postharvest | 30.0 | None
Pineapple, postharvest | 20.0 | None
Pistachio, postharvest | 200.0 | None
Plum, postharvest | 20.0 | None
Pomegranate, postharvest | 100.0 | None
Potato, postharvest | 75.0 | None
Pumpkin, postharvest | 20.0 | None
Quince, postharvest | 5.0 | None
Radish, postharvest | 30.0 | None
Rice, grain, postharvest | 50.0 | None
Rutabaga, roots, postharvest | 30.0 | None
Rutabaga, tops, postharvest | 30.0 | None
Rye, grain, postharvest | 50.0 | None
Salsify, roots, postharvest | 30.0 | None
Sorghum, grain, grain, postharvest | 50.0 | None
Soybean, postharvest | 200.0 | None
Squash, summer, postharvest | 30.0 | None
Squash, winter, postharvest | 20.0 | None
Squash, zucchini, postharvest | 20.0 | None
Strawberry, postharvest | 60.0 | None
Sweet potato, postharvest | 75.0 | None
Tangerine, postharvest | 30.0 | None
Timothy, hay, postharvest | 50.0 | 10/19/10
Tomato, postharvest | 20.0 | None
Turnip, roots, postharvest | 30.0 | None
Walnut, postharvest | 200.0 | None
Watermelon, postharvest | 20.0 | None
Wheat | 50.0 | None

6. In § 180.183 revise the section heading, and paragraphs (a) and (c) to read as follows:

§ 180.183 Disulfoton; tolerances for residues.

(a) General. Tolerances are established for residues of the insecticide disulfoton, O,O-diethyl S-(2-(ethylthio)ethyl) phosphorodithioate, including its metabolites and degradates, in or on the commodities in the table in this paragraph. Compliance with the tolerance levels specified in this paragraph is to be determined by measuring only the sum of disulfoton, O,O-diethyl S-(2-(ethylthio)ethyl) phosphorodithioate, and its metabolites demeton-S, O,O-diethyl S-(2-(ethylthio)ethyl) phosphorothioate; disulfoton sulfoxide, O,O-diethyl S-(2-(ethylsulfinyl)ethyl) phosphorodithioate; disulfoton oxygen analog sulfoxide, O,O-diethyl S-(2-(ethylsulfinyl)ethyl) phosphorothioate, disulfoton sulfone, O,O-diethyl S-(2-(ethylsulfonyl)ethyl) phosphorodithioate; and disulfoton oxygen analog sulfone, O,O-diethyl S-(2-(ethylsulfonyl)ethyl) phosphorothioate; calculated as the stoichiometric equivalent of disulfoton, in or on the commodity.

Commodity | Parts per million | Expiration/Revocation Date
Bean, lima | 0.75 | 12/31/12
Bean, snap, succulent | 0.75 | 12/31/12
Broccoli | 0.75 | 12/31/12
Brussels sprouts | 0.75 | 12/31/12
Cabbage | 0.75 | 12/31/12
Cauliflower | 0.75 | 12/31/12
Coffee, green bean | 0.2 | 6/30/13
Cotton, undelinted seed | 0.75 | 12/31/12
Lettuce, head | 0.75 | 12/31/12
Lettuce, leaf | 2 | 12/31/12

(c) Tolerances with regional registrations. A tolerance with regional registration is established for residues of the insecticide disulfoton, O,O-diethyl S-(2-(ethylthio)ethyl) phosphorodithioate, including its metabolites and degradates, in or on the commodity in the table in this paragraph. Compliance with the tolerance levels specified in this paragraph is to be determined by measuring only the sum of disulfoton, O,O-diethyl S-(2-(ethylthio)ethyl) phosphorodithioate, and its metabolites demeton-S, O,O-diethyl S-(2-(ethylthio)ethyl) phosphorothioate; disulfoton sulfoxide, O,O-diethyl S-(2-(ethylsulfinyl)ethyl) phosphorodithioate; disulfoton oxygen analog sulfoxide, O,O-diethyl S-(2-(ethylsulfinyl)ethyl) phosphorothioate, disulfoton sulfone, O,O-diethyl S-(2-(ethylsulfonyl)ethyl) phosphorodithioate; and disulfoton oxygen analog sulfone, O,O-diethyl S-(2-(ethylsulfonyl)ethyl) phosphorothioate; calculated as the stoichiometric equivalent of disulfoton, in or on the commodity.

Commodity | Parts per million | Expiration/Revocation Date
Asparagus | 0.1 | 12/31/12

7. In § 180.200 revise paragraph (a)(1) to read as follows:

§ 180.200 Dicloran; tolerances for residues.

(a) General. (1) Tolerances are established for residues of the fungicide dicloran, 2,6-dichloro-4-nitroaniline, including its metabolites and degradates, in or on the commodities in the table in this paragraph. Compliance with the tolerance levels specified in this paragraph is to be determined by measuring only dicloran, 2,6-dichloro-4-nitroaniline, in or on the commodity. Unless otherwise specified, the tolerances prescribed in the following table provide for residues from preharvest application only.

Commodity | Parts per million | Expiration/Revocation Date
Apricot, postharvest | 20 | None
Bean, snap, succulent | 20 | None
Carrot, roots, postharvest | 10 | 11/2/11
Celery | 15 | None
Cherry, sweet, postharvest | 20 | None
Cucumber | 5 | None
Endive | 10 | None
Garlic | 5 | None
Grape | 10 | None
Lettuce | 10 | None
Nectarine, postharvest | 20 | None
Onion | 10 | None
Peach, postharvest | 20 | None
Plum, prune, fresh, postharvest | 15 | None
Potato | 0.25 | None
Rhubarb | 10 | None
Sweet potato, postharvest | 10 | None
Tomato | 5 | None

§ 180.226 [Amended]

8. In § 180.226 remove the entries for “sorghum, grain, grain” and “soybean, seed” from the table in paragraph (a)(1).

9. In § 180.227 revise paragraph (a)(1), and the introductory text in paragraphs (a)(2) and (a)(3) to read as follows:

§ 180.227 Dicamba; tolerances for residues.

(a) * * *. (1) Tolerances are established for residues of the herbicide dicamba, 3,6-dichloro-o-anisic acid, including its metabolites and degradates, in or on the commodities in the table in this paragraph. Compliance with the tolerance levels specified in this paragraph is to be determined by measuring only the sum of dicamba, 3,6-dichloro-o-anisic acid, and its metabolite, 3,6-dichloro-5-hydroxy-o-anisic acid, calculated as the stoichiometric equivalent of dicamba, in or on the commodity.

Commodity | Parts per million
Barley, grain | 6.0
Barley, hay | 2.0
Barley, straw | 15.0
Corn, field, forage | 3.0
Corn, field, grain | 0.1
Corn, field, stover | 3.0
Corn, pop, grain | 0.1
Corn, pop, stover | 3.0
Corn, sweet, forage | 0.50
Corn, sweet, kernel plus cob with husks removed | 0.04
Corn, sweet, stover | 0.50
Cotton, undelinted seed | 0.2
Grass, forage, fodder and hay, group 17, forage | 125.0
Grass, forage, fodder and hay, group 17, hay | 200.0
Millet, proso, forage | 90.0
Millet, proso, grain | 2.0
Millet, proso, hay | 40.0
Millet, proso, straw | 30.0
Oat, forage | 90.0
Oat, grain | 2.0
Oat, hay | 40.0
Oat, straw | 30.0
Rye, forage | 90.0
Rye, grain | 2.0
Rye, straw | 30.0
Sorghum, grain, forage | 3.0
Sorghum, grain, grain | 4.0
Sorghum, grain, stover | 10.0
Sugarcane, cane | 0.3
Sugarcane, molasses | 5.0
Wheat, forage | 90.0
Wheat, grain | 2.0
Wheat, hay | 40.0
Wheat, straw | 30.0

(2) Tolerances are established for residues of the herbicide dicamba, 3,6-dichloro-o-anisic acid, including its metabolites and degradates, in or on the commodities in the table in this paragraph. Compliance with the tolerance levels specified in this paragraph is to be determined by measuring only the sum of dicamba, 3,6-dichloro-o-anisic acid, and its metabolite, 3,6-dichloro-2-hydroxybenzoic acid, calculated as the stoichiometric equivalent of dicamba, in or on the commodity.

(3) Tolerances are established for residues of the herbicide dicamba, 3,6-dichloro-o-anisic acid, including its metabolites and degradates, in or on the commodities in the table in this paragraph. Compliance with the tolerance levels specified in this paragraph is to be determined by measuring only the sum of dicamba, 3,6-dichloro-o-anisic acid, and its metabolites, 3,6-dichloro-5-hydroxy-o-anisic acid, and 3,6-dichloro-2-hydroxybenzoic acid, calculated as the stoichiometric equivalent of dicamba, in or on the commodity.

10. Revise § 180.243 to read as follows:

§ 180.243 Propazine; tolerances for residues.

(a) General. Tolerances are established for residues of the herbicide propazine, 2-chloro-4,6-bis(isopropylamino)-s-triazine, including its metabolites and degradates, in or on the commodities in the table in this paragraph. Compliance with the tolerance levels specified in this paragraph is to be determined by measuring only the sum of propazine, 2-chloro-4,6-bis(isopropylamino)-s-triazine, and its two chlorinated degradates, 2-amino-4-chloro-6-isopropylamino-s-triazine and 2,4-diamino-6-chloro-s-triazine, calculated as the stoichiometric equivalent of propazine, in or on the commodity.

Commodity | Parts per million
Sorghum, grain, forage | 0.25
Sorghum, grain, grain | 0.25
Sorghum, grain, stover | 0.25

(b) Section 18 emergency exemptions. [Reserved]

(c) Tolerances with regional registrations. [Reserved]

(d) Indirect or inadvertent residues. [Reserved]

§ 180.253 [Amended]

11. In § 180.253 remove the entries for “leek,” “strawberry,” and “watercress” from the table in paragraph (a).

12. In § 180.261 revise the section heading, paragraph (a) and paragraph (c) to read as follows:

§180.261 Phosmet; tolerances for residues.

(a) General. Tolerances are established for residues of the insecticide phosmet, N-(mercaptomethyl) phthalimide S-(O,O-dimethyl phosphorodithioate), including its metabolites and degradates, in or on the commodities in the table in this paragraph. Compliance with the tolerance levels specified in this paragraph is to be determined by measuring only the sum of phosmet, N-(mercaptomethyl) phthalimide S-(O,O-dimethyl phosphorodithioate), and its oxygen analog, N-(mercaptomethyl) phthalimide S-(O,O-dimethyl phosphorothioate, calculated as the stoichiometric equivalent of phosmet, in or on the commodity.

Commodity | Parts per million
Alfalfa, forage | 20
Alfalfa, hay | 40
Almond, hulls | 10
Apple | 10
Apricot | 5
Blueberry | 10
Cattle, fat | 0.2
Cattle, meat | 0.1
Cattle, meat byproducts | 0.1
Cherry | 10
Cranberry | 10
Fruit, citrus, group 10 | 5
Goat, fat | 0.1
Goat, meat | 0.1
Goat, meat byproducts | 0.1
Grape | 10
Hog, fat | 0.2
Hog, meat | 0.04
Hog, meat byproducts | 0.04
Horse, fat | 0.1
Horse, meat | 0.1
Horse, meat byproducts | 0.1
Kiwifruit | 25
Milk | 0.1
Nectarine | 5
Nut, tree, group 14 | 0.1
Pea, dry, seed | 0.5
Pea, field, hay | 20
Pea, field, vines | 10
Pea, succulent | 1
Peach | 10
Pear | 10
Plum, prune, fresh | 5
Potato | 0.1
Sheep, fat | 0.1
Sheep, meat | 0.1
Sheep, meat byproducts | 0.1
Sweet potato, roots | 12

(c) Tolerances with regional registrations. Tolerances with regional registration are established for residues of the insecticide phosmet, N-(mercaptomethyl) phthalimide S-(O,O-dimethyl phosphorodithioate), including its metabolites and degradates, in or on the commodities in the table in this paragraph. Compliance with the tolerance levels specified in this paragraph is to be determined by measuring only the sum of phosmet, N-(mercaptomethyl) phthalimide S-(O,O-dimethyl phosphorodithioate), and its oxygen analog, N-(mercaptomethyl) phthalimide S-(O,O-dimethyl phosphorothioate, calculated as the stoichiometric equivalent of phosmet, in or on the commodity.

Commodity | Parts per million
Crabapple | 20
Pistachio | 0.1

13. In § 180.262 revise paragraph (a) to read as follows:

§180.262 Ethoprop; tolerances for residues.

(a) General. Tolerances are established for residues of the nematocide and insecticide ethoprop, O-ethyl S,S-dipropyl phosphorodithioate, including its metabolites and degradates, in or on the commodities in the table in this paragraph. Compliance with the tolerance levels specified in this paragraph is to be determined by measuring only ethoprop, O-ethyl S,S-dipropyl phosphorodithioate, in or on the commodity.

Commodity | Parts per million | Expiration/Revocation Date
Banana | 0.02 | None
Bean, lima | 0.02 | None
Bean, snap, succulent | 0.02 | None
Cabbage | 0.02 | None
Corn, field, forage | 0.02 | None
Corn, field, grain | 0.02 | None
Corn, field, stover | 0.02 | None
Corn, sweet, forage | 0.02 | None
Corn, sweet, kernel plus cob with husks removed | 0.02 | None
Corn, sweet, stover | 0.02 | None
Cucumber | 0.02 | None
Hop, dried cones | 0.02 | None
Peppermint, tops | 0.02 | None
Pineapple | 0.02 | 1/9/12
Potato | 0.02 | None
Spearmint, tops | 0.02 | None
Sugarcane, cane | 0.02 | None
Sweet potato, roots | 0.02 | None

14. In § 180.292 revise paragraph (a) to read as follows:

§180.292 Picloram; tolerances for residues.

(a) General. Tolerances are established for residues of the herbicide picloram, 4-amino-3,5,6-trichloropicolinic acid, including its metabolites and degradates, in or on the commodities in the table in this paragraph from its application in the acid form or in the form of its salts. Compliance with the tolerance levels specified in this paragraph is to be determined by measuring only picloram, 4-amino-3,5,6-trichloropicolinic acid, in or on the commodity.

Commodity | Parts per million
Barley, grain | 0.5
Barley, pearled barley | 3.0
Barley, straw | 1.0
Cattle, fat | 0.4
Cattle, meat | 0.4
Cattle, meat byproducts | 15
Egg | 0.05
Goat, fat | 0.4
Goat, meat | 0.4
Goat, meat byproducts | 15
Grain, aspirated fractions | 4.0
Grass, forage | 400
Grass, hay | 225
Hog, fat | 0.05
Hog, meat | 0.05
Hog, meat byproducts | 0.05
Horse, fat | 0.4
Horse, meat | 0.4
Horse, meat byproducts | 15
Milk | 0.25
Oat, forage | 1.0
Oat, grain | 0.5
Oat, groats/rolled oats | 3.0
Oat, straw | 1.0
Poultry, fat | 0.05
Poultry, meat | 0.05
Poultry, meat byproducts | 0.05
Sheep, fat | 0.4
Sheep, meat | 0.4
Sheep, meat byproducts | 15
Wheat, bran | 3.0
Wheat, forage | 1.0
Wheat, germ | 3.0
Wheat, grain | 0.5
Wheat, middlings | 3.0
Wheat, shorts | 3.0
Wheat, straw | 1.0

15. In § 180.311 revise paragraph (a) to read as follows:

§180.311 Cacodylic acid; tolerances for residues.

(a) General. A tolerance is established for residues of the defoliant cacodylic acid, dimethylarsinic acid, including its metabolites and degradates, in or on the commodity in the table in this paragraph. Compliance with the tolerance level specified in this paragraph is to be determined by measuring only those cacodylic acid residues convertible to As2O3, expressed as the stoichiometric equivalent of cacodylic acid, in or on the commodity.

Commodity | Parts per million | Expiration/Revocation Date
Cotton, undelinted seed | 2.8 | 1/1/12

16. Revise § 180.315 to read as follows:

§180.315 Methamidophos; tolerances for residues.

(a) General. Tolerances are established for residues of methamidophos, O,S-dimethyl phosphoramidothioate, including its metabolites and degradates, in or on the commodities in the table in this paragraph as a result of the application of methamidophos. Compliance with the tolerance levels specified in this paragraph is to be determined by measuring only methamidophos, O,S-dimethyl phosphoramidothioate, in or on the commodity.

Commodity | Parts per million | Expiration/Revocation Date
Broccoli¹ | 1.0 | 12/31/12
Cabbage² | 1.0 | 12/31/12
Cotton, undelinted seed | 0.1 | 12/31/12
Potato | 0.1 | 12/31/12
¹ There are no U.S. registrations since 1989.
² There are no U.S. registrations since 2001.

(b) Section 18 emergency exemptions. [Reserved]

(c) Tolerances with regional registrations. A tolerance with a regional registration is established for residues of methamidophos, O,S-dimethyl phosphoramidothioate, including its metabolites and degradates, in or on the commodity in the table in this paragraph as a result of the application of methamidophos. Compliance with the tolerance level specified in this paragraph is to be determined by measuring only methamidophos, O,S-dimethyl phosphoramidothioate, in or on the commodity.

Commodity | Parts per million | Expiration/Revocation Date
Tomato | 2.0 | 12/31/12

(d) Indirect or inadvertent residues. [Reserved]

17. In § 180.349 revise paragraph (a) and paragraph (c) to read as follows:

§180.349 Fenamiphos; tolerances for residues.

(a) General. Tolerances are established for residues of the nematicide/insecticide fenamiphos, ethyl 3-methyl-4-(methylthio)phenyl 1-(methylethyl)phosphoramidate, including its metabolites and degradates, in or on the commodities in the table in this paragraph. Compliance with the tolerance levels specified in this paragraph is to be determined by measuring only the sum of fenamiphos, ethyl 3-methyl-4-(methylthio)phenyl 1-(methylethyl)phosphoramidate, and its cholinesterase inhibiting metabolites ethyl 3-methyl-4-(methylsulfinyl)phenyl 1-(methylethyl)phosphoramidate and ethyl 3-methyl-4-(methylsulfonyl)phenyl 1-(methylethyl)phosphoramidate, calculated as the stoichiometric equivalent of fenamiphos, in or on the commodity.

Commodity | Parts per million
Banana¹ | 0.1
Grape¹ | 0.1
Grape, raisin¹ | 0.3
Pineapple¹ | 0.3
¹ There are no U.S. registrations as of May 31, 2007.

(c) Tolerances with regional registrations. [Reserved]

18. In § 180.367 revise paragraph (a) to read as follows:

§180.367 N-octyl bicycloheptene dicarboximide; tolerances for residues.

(a) General. A tolerance of 5 parts per million is established for residues of the insecticide synergist N-octyl bicycloheptene dicarboximide, including its metabolites and degradates, in or on all food items in food handling establishments where food and food products are held, processed, prepared and/or served, provided that the food is removed or covered prior to such use, except for bagged food in warehouse storage which need not be removed or covered prior to applications of formulations containing N-octyl bicycloheptene dicarboximide. Compliance with the tolerance level specified in this paragraph is to be determined by measuring only N-octyl bicycloheptene dicarboximide, in or on the commodity.

19. Revise § 180.371 to read as follows:

§180.371 Thiophanate-methyl; tolerances for residues.

(a) General. Tolerances are established for residues of thiophanate-methyl, dimethyl ((1,2-phenylene) bis (iminocarbonothioyl)) bis(carbamate), including its metabolites and degradates, in or on the commodities in the table in this paragraph. Compliance with the tolerance levels specified in this paragraph is to be determined by measuring only the sum of thiophanate-methyl, dimethyl ((1,2-phenylene) bis (iminocarbonothioyl)) bis(carbamate), and its metabolite, methyl 2-benzimidazoyl carbamate (MBC), calculated as the stoichiometric equivalent of thiophanate-methyl, in or on the commodity.

Commodity | Parts per million
Almond | 0.1
Almond, hulls | 0.5
Apple | 2.0
Apricot | 15.0
Banana | 2.0
Bean, dry, seed | 0.2
Bean, snap, succulent | 2.0
Beet, sugar, roots | 0.2
Cherry, sweet | 20.0
Cherry, tart | 20.0
Grain, aspirated fractions | 12
Grape | 5.0
Onion, bulb | 0.5
Onion, green | 3.0
Peach | 3.0
Peanut | 0.1
Peanut, hay | 5.0
Pear | 3.0
Pecan | 0.1
Pistachio | 0.1
Plum | 0.5
Potato | 0.1
Soybean, hulls | 1.5
Soybean, seed | 0.2
Strawberry | 7.0
Vegetable, cucurbit, group 9 | 1.0
Wheat, forage | 1.1
Wheat, grain | 0.1
Wheat, hay | 0.1
Wheat, straw | 0.1

(b) Section 18 emergency exemptions. [Reserved]

(c) Tolerances with regional registrations. A tolerance with a regional registration is established for residues of thiophanate-methyl, dimethyl ((1,2-phenylene) bis (iminocarbonothioyl)) bis(carbamate), including its metabolites and degradates, in or on the commodity in the table in this paragraph. Compliance with the tolerance level specified in this paragraph is to be determined by measuring only the sum of thiophanate-methyl, dimethyl ((1,2-phenylene) bis (iminocarbonothioyl)) bis(carbamate), and its metabolite, methyl 2-benzimidazoyl carbamate (MBC), calculated as the stoichiometric equivalent of thiophanate-methyl, in or on the commodity.

Commodity | Parts per million
Canola, seed | 0.1

(d) Indirect or inadvertent residues. [Reserved]

20. In § 180.396 revise paragraph (a), and paragraph (c) to read as follows:

§180.396 Hexazinone; tolerances for residues.

(a) General. (1) Tolerances are established for residues of the herbicide hexazinone, 3-cyclohexyl-6-(dimethylamino)-1-methyl-1,3,5-triazine-2,4-(1H, 3H)-dione, including its metabolites and degradates, in or on the commodities in the table in this paragraph. Compliance with the tolerance levels specified in this paragraph is to be determined by measuring only the sum of hexazinone, 3-cyclohexyl-6-(dimethylamino)-1-methyl-1,3,5-triazine-2,4-(1H, 3H)-dione, and its plant metabolites: metabolite A, 3-(4-hydroxycyclohexyl)-6-(dimethylamino)-1-methyl-1,3,5-triazine-2,4-(1H, 3H)-dione, metabolite B, 3-cyclohexyl-6-(methylamino)-1-methyl-1,3,5-triazine-2,4-(1H, 3H)-dione, metabolite C, 3-(4-hydroxycyclohexyl)-6-(methylamino)-1-methyl-1,3,5-triazine-2,4-(1H, 3H)-dione, metabolite D, 3-cyclohexyl-1-methyl-1,3,5-triazine-2,4,6-(1H, 3H, 5H)-trione, and metabolite E, 3-(4-hydroxycyclohexyl)-1-methyl-1,3,5-triazine-2,4,6-(1H, 3H, 5H)-trione, calculated as the stoichiometric equivalent of hexazinone, in or on the commodity.

Commodity | Parts per million
Alfalfa, forage | 2.0
Alfalfa, hay | 4.0
Alfalfa, seed | 2.0
Blueberry | 0.6
Grass, forage | 250
Grass, hay | 230
Pineapple | 0.6
Sugarcane, cane | 0.6
Sugarcane, molasses | 4.0

(2) Tolerances are established for residues of the herbicide hexazinone, 3-cyclohexyl-6-(dimethylamino)-1-methyl-1,3,5-triazine-2,4-(1H, 3H)-dione, including its metabolites and degradates, in or on the commodities in the table in this paragraph. Compliance with the tolerance levels specified in this paragraph is to be determined by measuring only the sum of hexazinone, 3-cyclohexyl-6-(dimethylamino)-1-methyl-1,3,5-triazine-2,4-(1H, 3H)-dione, and its animal tissue metabolites: metabolite B, 3-cyclohexyl-6-(methylamino)-1-methyl-1,3,5-triazine-2,4-(1H, 3H)-dione, and metabolite F, 3-cyclohexyl-6-amino-1-methyl-1,3,5-triazine-2,4-(1H, 3H)-dione, calculated as the stoichiometric equivalent of hexazinone, in or on the commodity.

Commodity | Parts per million
Cattle, fat | 0.1
Cattle, meat | 0.5
Cattle, meat byproducts | 4.0
Goat, fat | 0.1
Goat, meat | 0.5
Goat, meat byproducts | 4.0
Hog, fat | 0.1
Hog, meat | 0.5
Hog, meat byproducts | 4.0
Horse, fat | 0.1
Horse, meat | 0.5
Horse, meat byproducts | 4.0
Sheep, fat | 0.1
Sheep, meat | 0.5
Sheep, meat byproducts | 4.0

(3) A tolerance is established for residues of the herbicide hexazinone, 3-cyclohexyl-6-(dimethylamino)-1-methyl-1,3,5-triazine-2,4-(1H, 3H)-dione, including its metabolites and degradates, in or on the commodity in the table in this paragraph. Compliance with the tolerance level specified in this paragraph is to be determined by measuring only the sum of hexazinone, 3-cyclohexyl-6-(dimethylamino)-1-methyl-1,3,5-triazine-2,4-(1H, 3H)-dione, and its metabolites: metabolite B, 3-cyclohexyl-6-(methylamino)-1-methyl-1,3,5-triazine-2,4-(1H, 3H)-dione, metabolite C, 3-(4-hydroxycyclohexyl)-6-(methylamino)-1-methyl-1,3,5-triazine-2,4-(1H, 3H)-dione, metabolite C-2, 3-(3-hydroxycyclohexyl)-6-(methylamino)-1-methyl-1,3,5-triazine-2,4-(1H, 3H)-dione, and metabolite F, 3-cyclohexyl-6-amino-1-methyl-1,3,5-triazine-2,4-(1H, 3H)-dione, calculated as the stoichiometric equivalent of hexazinone, in or on the commodity.

Commodity | Parts per million
Milk | 11

(c) Tolerances with regional registrations. [Reserved]

§ 180.407 [Amended]

21. In § 180.407 remove the entry for “cotton, hulls” from the table in paragraph (a).

22. Revise § 180.905 to read as follows:

§180.905 Pesticide chemicals; exemptions from the requirement of a tolerance.

(a) When applied to growing crops, in accordance with good agricultural practice, the following pesticide chemicals are exempt from the requirement of a tolerance:

(1) Petroleum oils.

(2) Piperonyl butoxide.

(3) Pyrethrins.

(4) Rotenone or derris or cube roots.

(5) Sabadilla.

(b) These pesticides are not exempted from the requirement of a tolerance when applied to a crop at the time of or after harvest.

[FR Doc. 2010-11845 Filed 5-18-10; 8:45 am]

BILLING CODE 6560-50-S